COMMODITY FUTURES TRADING COMMISSION

Privacy Act of 1974; Notice; Publication of the Systems of Records Managed by the Commodity Futures Trading Commission

AGENCY: Commodity Futures Trading Commission.

ACTION: Notice; publication of existence and character of revised systems of records and proposed routine uses.

SUMMARY: The Commodity Futures Trading Commission (Commission) is revising the notices it is required to publish under the Privacy Act of 1974 to describe the systems of records that contain information about individuals. This revision incorporates address and title changes and updated system descriptions. It also incorporates new systems of records that were compiled since the last publication of the Commission's systems of records notices in 2001. This revision proposes to add routine uses that are applicable to all of the Commission's systems of records and to re-identify the systems of records already in existence in a more consistent format.

DATES: Comments should be postmarked by March 14, 2011. This notice will become effective without further notice, on the date which is 60 days from the date given above unless otherwise revised pursuant to comments received.

ADDRESSES: Written comments may be mailed or delivered to: Office of the Secretariat, Commodity Futures Trading Commission, Three Lafayette Centre, 1155 21st Street, NW., Washington, DC 20581. Comments may also be sent by e-mail to http://comments.cftc.gov.

FOR FURTHER INFORMATION CONTACT: Kathy Harman-Stokes, Chief Privacy Officer, Office of the Executive Director, Commodity Futures Trading Commission, Three Lafayette Centre, 1155 21st Street, NW., Washington, DC 20581. Telephone: (202) 418-6629 or e-mail: kharman-stokes@cftc.gov.

SUPPLEMENTARY INFORMATION: This notice alerts the public to the information the Commission collects and maintains on individuals. In compiling and publishing the complete text for all of the Commission systems of records, new routine uses (blanket routine uses) have been added that apply to all of the notices. Since routine uses are permissive in nature, the blanket routine uses and the routine uses listed for each of the systems of records may be used to make a disclosure, but are not required to be used when a requester seeks a record. The responsibility to decide whether a routine use is applicable rests with the Commission. The Commission is also proposing to add a new system of records entitled, Emergency Locator System as CFTC-9. This system of records will contain information about Commission employees and those identified by the employee to contact in the event of a medical or other emergency concerning the employee.

The system report, as required by 5 U.S.C. 552a(r) has been submitted to the Committee on Homeland Security and Governmental Affairs of the United States Senate, the Committee on Oversight and Government Reform of the House of Representatives, and the Office of Management and Budget.

The Privacy Act

The Privacy Act is a Federal law that protects information about individuals that is collected and maintained in a “system of records” by an agency of the United States government. In addition to providing the public with information about these systems, the Privacy Act and the Commission's rules limit the agency's ability to use or disclose personal information except for specific purposes.

Systems of Records

A “system of records” is a collection of information about individuals in paper, electronic, or other format, from which information is retrieved by the name of the individual or by some other identifying particular assigned to the individual, such as a social security number or address. The Privacy Act does not cover information about businesses or about individuals who are not U.S. citizens or lawfully admitted aliens. See 5 U.S.C. 522a(5).

Each system of records notice contains the following information:

• The name of the system;

• The location of the system;

• The categories of individuals whose records are maintained in the system;

• The types of records maintained in the system;

• The authority for maintaining the system;

• The routine uses of records maintained in the system, including the categories of users and the purposes of such uses;

• The policies and practices for storing, retrieving, accessing, retaining, and disposing of records in the system;

• The title and business address of the system manager, the agency official who is responsible for the system of records;

• How to find out whether the system of records contains a record pertaining to the individual, how the individual may gain access to any record pertaining to the individual contained in the system of records, and how the individual can contest the content of the records; and

• The categories of sources of records in the system.

Exempt Systems of Records

The Commission has exempted four systems of records from certain requirements of the Privacy Act, as authorized under 5 U.S.C. 552a(k), because they contain investigatory material:

• CFTC-1 Enforcement matter register and matter indices (exempted, to the extent it contains records that refer or relate to records covered under CFTC-10, Investigatory Records (exempted)).

• CFTC-10 Investigatory materials compiled for law enforcement purposes.

• CFTC-31 Information pertaining to individuals discussed at closed Commission meetings.

• CFTC-32 Investigatory materials compiled by the Office of the Inspector General.

Locations of Systems of Records

Each system of records notice tells the public where records are kept. Records may be kept at one or more Commission offices. The Commission offices are in the following locations:

• Washington, DC: Three Lafayette Centre, 1155 21st Street, NW., Washington, DC 20581, Telephone: (202) 418-5000.

• Chicago: 525 West Monroe Street, Suite 1100, Chicago, Illinois 60661, Telephone: (312) 596-0700.

• Kansas City: Two Emanuel Cleaver II Blvd., Suite 300, Kansas City, Missouri 64112, Telephone: (816) 960-7700.

• New York: 140 Broadway, 19th Floor, New York, New York 10005, Telephone: (646) 746-9700.

In the system of records notice, the Commission headquarters office in Washington, DC, is referred to as the “principal office.” The regional offices are referred to collectively as the “regional offices.” “All Commission offices” means the headquarters office and the regional offices.

General Statement of CFTC Routine Uses

The following “blanket routine uses” of records, numbered “1” through “19” below, apply to every system of records maintained within the Commission. These blanket routine uses of the records are published below only once in the interest of simplicity, economy, and to avoid redundancy. Additional routine uses that apply to a particular Commission system notice are listed in the applicable system notice. The release of records under all routine uses is permissive rather than mandatory. Each of the blanket routine uses is for a purpose which is compatible with the purpose for which the information was originally collected.

The following routine uses apply to all CFTC systems of records:

1. Information may be used by the Commission in any administrative proceeding before the Commission, in any injunctive action authorized under the Commodity Exchange Act or in any other action or proceeding in which the Commission or its staff participates as a party or the Commission participates as amicus curiae.

2. Information may be disclosed to the Department of Justice, the Securities and Exchange Commission, the United States Postal Service, the Internal Revenue Service, the Department of Agriculture, the Office of Personnel Management, and to other Federal, State, local, territorial or Tribal law enforcement or regulatory agencies for use in meeting their statutory and regulatory requirements.

3. Information may be given to any “registered entity,” as defined in section 1a of the Commodity Exchange Act, 7 U.S.C. 1, et seq. (“the Act”), if the Commission has reason to believe that such information will assist the registered entity in carrying out its responsibilities under the Act. Information may also be given to any registered futures association registered under section 17 of the Act (e.g., the National Futures Association) to assist it in carrying out its self-regulatory responsibilities under the Act, and to any national securities exchange or national securities association registered with the Securities and Exchange Commission to assist those organizations in carrying out their self-regulatory responsibilities under the Securities Exchange Act of 1934, 15 U.S.C. 78a, et seq.

4. At the discretion of the Commission staff, information may be given or shown to anyone during the course of a Commission investigation if the staff has reason to believe that the person to whom it is disclosed may have further information about the matters discussed therein, and those matters appear relevant to the subject of the investigation.

5. Information may be included in a public report issued by the Commission following an investigation, to the extent that this is authorized under section 8 of the Commodity Exchange Act, 7 U.S.C. 12. Section 8 authorizes publication of such reports but contains restrictions on the publication of certain types of sensitive business information developed during an investigation. In certain contexts, some of this information might be considered personal in nature.

6. Information may be disclosed to a Federal agency in response to its request in connection with the hiring or retention of an employee, the issuance of a security clearance, the reporting of an investigation of an employee, the letting of a contract or the issuance of a license, or a grant or other benefit by the requesting agency, to the extent that the information may be relevant to the requesting agency's decision on the matter.

7. Information may be disclosed to a prospective employer in response to its request in connection with the hiring or retention of an employee, to the extent that the information is believed to be relevant to the prospective employer's decision in the matter.

8. Information may be disclosed to any person, pursuant to Section 12(a) of the Commodity Exchange Act, 7 U.S.C. 16(a), when disclosure will further the policies of that Act or of other provisions of law. Section 12(a) authorizes the Commission to cooperate with various other government authorities or with “any person.”

9. Where information, either alone or in conjunction with other information indicates a violation or potential violation of law—criminal, civil, or regulatory in nature—the relevant information may be disclosed to the appropriate Federal, State, local, territorial, Tribal, or foreign law enforcement authority or other appropriate entity charged with the responsibility for investigating or prosecuting such violation or charged with enforcing or implementing such law.

10. Information may be disclosed to the General Services Administration for the purpose of records management inspections conducted under the authority of 44 U.S.C. 2904 and 2906.

11. Information may be disclosed to the National Archives and Records Administration for the purpose of records management inspections being conducted under the authority of 44 U.S.C. 2904 and 2906.

12. Information may be disclosed to foreign law enforcement, investigatory, or administrative authorities in order to comply with requirements set forth in international arrangements, such as memoranda of understanding.

13. Information may be disclosed to contractors, grantees, volunteers, experts, students, and others performing or working on a contract, service, grant, cooperative agreement, or job for the Federal government when necessary to accomplish an agency function.

14. Information may be disclosed to the Merit Systems Protection Board, including the Office of Special Counsel for the purpose of litigation, including administrative proceedings, appeals, special studies of the civil service and other merit systems.

15. Information may be disclosed to the Department of Justice or in a proceeding before a court, adjudicative body, or other administrative body which the agency is authorized to appear, when:

a. The agency, or any component thereof; or

b. Any employee of the agency in his or her official capacity; or

c. Any employee of the agency in his or her official capacity where the Department of Justice or the agency has agreed to represent the employee; or

d. The United States, when the agency determines that litigation is likely to affect the agency or any of its components;

Is a party to litigation or has an interest in such litigation, and the use of such records by the Department of Justice or the agency is deemed by the agency to be relevant and necessary to the litigation provided, however, that in each case it has been determined that the disclosure is compatible with the purpose for which the records were collected.

16. Information may be disclosed to a Member of Congress or staff acting upon the Member's behalf when the Member or staff requests the information on behalf of, or at the request of, the individual who is the subject of the record.

17. Information related to any traders or the amount or quantity of any commodity purchased or sold by such traders may be disclosed to any committee of either House of Congress upon its request, acting within the scope of its jurisdiction, pursuant to the Commodity Exchange Act, 7 U.S.C. 1 et seq., including Section 8(e) of such Act at 7 U.S.C. 12, and the rules and regulations promulgated thereunder.

18. Information may be disclosed to another Federal agency, to a court, or a party in litigation before a court or in an administrative proceeding being conducted by a Federal agency, when the Government is a party to the judicial or administrative proceeding.

19. Information may be disclosed to appropriate agencies, entities, and individuals when:

a. The Commission suspects or has confirmed that the security or confidentiality of information in the system of records has been compromised;

b. The Commission has determined that as a result of the suspected or confirmed compromise there is a risk of harm to economic or property interests, identity theft or fraud, or harm to the security or integrity of this system or other systems or programs (whether maintained by the Commission or another agency or entity) that rely upon the compromised information; and

c. The disclosure made to such agencies, entities, and individuals is reasonably necessary to assist in connection with the Commission's efforts to respond to the suspected or confirmed compromise and prevent, minimize, or remedy such harm.

CFTC Systems of Records Notices

Below is a list of the Commission's systems of records, followed by the complete text of all of the systems of records notices.

Index

CFTC-1 Enforcement Matter Register and Matter Indices (exempted)

CFTC-2 Commission Correspondence Files

CFTC-3 Proceedings Docket Files Forwarded for Adjudication

CFTC-4 Employee Leave, Time, and Attendance

CFTC-5 Employee Personnel/Payroll Records

CFTC-6 Employee Travel and Transportation Records

CFTC-7 Formal Employment Discrimination Complaint and Reasonable Accommodation Files

CFTC-8 Employment Applications

CFTC-9 Emergency Locator System

CFTC-10 Investigatory Records (exempted)

CFTC-12 Fitness Investigations

CFTC-13 Interpretative, Exemptive, and No-Action Files

CFTC-14 Commodity Futures Trading Commission Alumni Records

CFTC-15 Large Trader Report Files

CFTC-16 Enforcement Case Files

CFTC-17 Litigation Files—OGC

CFTC-18 Logbook on Speculative Limit Violations

CFTC-20 Registration

CFTC-28 Self-Regulatory Organization Disciplinary Action Files

CFTC-29 Reparations Complaints

CFTC-30 Open Commission Meetings

CFTC-31 Closed Commission Meetings (exempted)

CFTC-32 Office of the Inspector General Investigative Files (exempted)

CFTC-33 Electronic Access Card

CFTC-34 Telephone System (BlackBerry or Calling Card)

CFTC-35 Interoffice and Internet E-mail

CFTC-36 Internet Security Gateway Systems (Firewall, Web Content Filter, and E-mail Filter)

CFTC-37 Lexis/Westlaw Billing Information System

CFTC-38 Automated Library Circulation System

CFTC-39 Freedom of Information Act Requests

CFTC-40 Privacy Act Requests

CFTC-41 Requests for Confidential Treatment

CFTC-42 Debt Collection Files

CFTC-43 Visitor Information System

CFTC-44 Personnel Security Files

CFTC-1

SYSTEM NAME:

Enforcement Matter Register and Matter Indices (exempted, to the extent it contains records that refer or relate to records covered under CFTC-10, Investigatory Records (exempted)).

SYSTEM LOCATION:

This system is located in the Division of Enforcement in the Commission's principal office at Commodity Futures Trading Commission, Three Lafayette Centre, 1155 21st Street, NW., Washington DC, 20581, and regional offices in Chicago at 525 West Monroe Street, Suite 1100 Chicago, IL 60661, in Kansas City at Two Emanuel Cleaver II Blvd., Suite 300, Kansas City, MO 64112, and New York at 140 Broadway, 19th Floor, New York, NY 10005.

CATEGORIES OF INDIVIDUALS COVERED BY THE SYSTEM:

a. Individuals found or alleged to have, or suspected of having, violated the Commodity Exchange Act or the rules, regulations or orders of the Commission adopted thereunder.

b. Individuals whom the Commission staff has reason to believe have violated, are violating or are about to violate a law or regulation or order of another Federal, State or foreign authority.

c. Individuals lodging complaints with the Commission concerning third parties.

d. Individuals whom the Commission staff has identified as relevant to an enforcement matter, such as complainants, witnesses and counsel.

e. Individuals whom a foreign law enforcement authority has found or alleges to have, or suspects of having, violated foreign laws, rules, regulations or orders of such foreign law enforcement authority.

CATEGORIES OF RECORDS IN THE SYSTEM:

An index system to CFTC-10 Investigatory Records (exempted) and CFTC-16 Enforcement Case Files, including:

a. The matter register records are organized by docket number and/or matter name. The register also indicates the date opened, the disposition and status, the date closed, and the staff member assigned.

b. The matter register also includes reports recommending openings and closings of investigations.

AUTHORITY FOR THE MAINTENANCE OF THE SYSTEM:

The Commodity Exchange Act, 7 U.S.C. 1 et seq., including Section 8 of such Act at 7 U.S.C. 12, and the rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, binders, computer files (eLaw) and computer disks. Electronic records, including computer files, are stored on the Commission's network and other electronic media as needed, such as encrypted hard drives.

RETRIEVABILITY:

By matter name or docket number.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets.

RETENTION AND DISPOSAL:

Records related to CFTC-10, Investigatory Records (exempted), and CFTC-16, Enforcement Case Files, are maintained indefinitely.

SYSTEM MANAGER(S) AND ADDRESS:

Director, Division of Enforcement, in the Commission's principal office at Commodity Futures Trading Commission, Three Lafayette Centre, 1155 21st Street, NW., Washington, DC 20581 and Regional Counsels in the regional offices: in Chicago at 525 West Monroe Street, Suite 1100 Chicago, IL 60661; in Kansas City at Two Emanuel Cleaver II Blvd., Suite 300, Kansas City, MO 64112; and in New York at 140 Broadway, 19th Floor, New York, NY 10005.

NOTIFICATION PROCEDURE:

Individuals seeking to determine whether this system of records contains non-exempt information about themselves or seeking access to non-exempt records about themselves in this system of records, or contesting the content of non-exempt records about themselves contained in this system of records should address written inquiry to the Office of General Counsel, Paralegal Specialist, Three Lafayette Centre, 1155 21st Street, NW., Washington, DC 20581. Telephone (202) 418-5011.

RECORD SOURCE CATEGORIES:

Individuals submitting complaints to the Commission, and miscellaneous sources including customers, law enforcement and regulatory agencies, commodity exchanges, National Futures Association, trade sources, and Commission-staff-generated items.

SYSTEMS EXEMPTED FROM CERTAIN PROVISIONS OF THE ACT:

The records in this system that refer or relate to records contained in CFTC-10, Investigatory Records (exempted), have been exempted by the Commission from certain provisions of the Privacy Act of 1974 pursuant to the terms of the Privacy Act, 5 U.S.C. 552a(k)(2), and the Commission's rules promulgated thereunder, 17 CFR 146.12. These records are exempt from the notification procedures, records access procedures, and record contest procedures set forth in the system notices of other systems of records, and from the requirement that the sources of records in the system be described.

CFTC-2

SYSTEM NAME:

Commission Correspondence Files.

SYSTEM LOCATION:

This system is located in the Commission's principal office at Commodity Futures Trading Commission, Three Lafayette Centre, 1155 21st Street, NW., Washington, DC 20581.

CATEGORIES OF INDIVIDUALS COVERED BY THE SYSTEM:

Individuals corresponding with the Commission, directly or through their representatives. Individuals discussed in correspondence to or from the Commission.

CATEGORIES OF RECORDS IN THE SYSTEM:

Incoming and outgoing correspondence and indices of correspondence, and certain internal reports and memoranda related to the correspondence. This system also includes e-mail, Internet and Web-based correspondence submitted by the public. This system includes only those records that are part of a general correspondence file maintained by the office involved. It includes correspondence indexed by assigned number and, in certain offices, by individual name of the correspondent.

AUTHORITY FOR MAINTENANCE OF THE SYSTEM:

44 U.S.C. 3101.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, binders or on index cards. Electronic records, including computer files, are stored on the Commission's network and other electronic media as needed, including desktop applications and the Correspondence System.

RETRIEVABILITY:

By name of correspondent, subject matter, date or assigned number. The name may be either the name of the person who sent or received the letter, or the person on whose behalf the letter was sent or received. It may also be another person who was the principal subject of the letter, where circumstances appear to justify this treatment. See previous discussion concerning the category of records maintained in this system.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets.

RETENTION AND DISPOSAL:

The retention and disposal period depends on the nature of the correspondence. For example, correspondence with the Commission that pertains to the programs and policies of the Commission becomes part of the agency's central files and is kept permanently. Other correspondence may be kept for between one and 10 years, depending on the subject matter.

SYSTEM MANAGER(S) AND ADDRESS:

Office of the Secretariat; Director, Office of International Affairs, Office of External Affairs; Executive Director; General Counsel; Director, Division of Enforcement; Director, Division of Market Oversight; Director, Division of Clearing and Intermediary Oversight, and Office of the Chief Economist. All are located at the Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals corresponding with the Commission and correspondence and memoranda prepared by the Commission.

CFTC-3

SYSTEM NAME:

Docket Files for Reparations and Administrative Adjudication.

SYSTEM LOCATION:

This system is located in the Office of Proceedings, Commodity Futures Trading Commission, Three Lafayette Centre, 1155 21st Street, NW., Washington, DC 20581.

CATEGORIES OF INDIVIDUALS COVERED BY THE SYSTEM:

All individuals involved in any CFTC administrative enforcement or reparations proceeding.

CATEGORIES OF RECORDS IN THE SYSTEM:

All pleadings, motions, applications, stipulations, affidavits, transcripts and documents introduced as evidence, briefs, orders, findings, opinions, and other matters that are part of the record of an administrative or reparations proceeding. They also include related correspondence and indices.

AUTHORITY FOR MAINTENANCE OF THE SYSTEM:

The Commission is authorized or required to conduct proceedings under several provisions of the Commodity Exchange Act, 7 U.S.C. 1 et seq. These files are necessary for the conduct of orderly proceedings. See also 44 U.S.C. 3101.

ROUTINE USES OF RECORDS MAINTAINED IN THE SYSTEM, INCLUDING CATEGORIES OF USERS AND THE PURPOSES OF SUCH USES:

These records are public records unless the Commission or assigned presiding officer determines for good cause to treat them as nonpublic records consistent with the provisions of the Freedom of Information Act. Nonpublic portions may be used for any purpose specifically authorized by the Commission or by the presiding officer who ordered such nonpublic treatment of the records.

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, on index cards, paper docket cards, and microfilm. Electronic records, including computer files, are stored on the Commission's network and other electronic media as needed.

RETRIEVABILITY:

By the docket number and cross-indexed by complainant and respondent names.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets. Records that the Commission or presiding officer has directed be held nonpublic, such as material submitted in a proceeding “in camera” or “under seal,” are maintained in file folders, binders or in the Commission's computer network (e.g., eLaw), separate from public records.

RETENTION AND DISPOSAL:

Docket files for reparations cases are maintained for 10 years after final disposition of the case. Docket files in administrative/enforcement cases are maintained for 15 years after final disposition of the case. Docket files for reparations sanctions files are maintained until the sanction is satisfied. Docket files of unique or precedent setting cases are permanent records that are transferred to the National Archives when 20 years old.

SYSTEM MANAGER(S) AND ADDRESS:

Proceedings Clerk, Office of Proceedings, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Commission staff members; opposing parties and their attorneys; proceeding witnesses; and miscellaneous sources.

CFTC-4

SYSTEM NAME:

Employee Leave, Time, and Attendance.

SYSTEM LOCATION:

The information in the system is located in the same Commission office as the employee described by the records. Information is also kept centrally on the computer system located in the Department of Agriculture's National Finance Center, New Orleans, Louisiana.

CATEGORIES OF INDIVIDUALS COVERED BY THE SYSTEM:

All Commission employees.

CATEGORIES OF RECORDS IN THE SYSTEM:

Various records reflecting Commission employees' time and attendance and leave status, as well as the allocation of employee time to designated budget account codes.

AUTHORITY FOR MAINTENANCE OF THE SYSTEM:

5 U.S.C. 6101-6133; 5 U.S.C. 6301-6326; 44 U.S.C. 3101.

ROUTINE USES OF THE RECORDS MAINTAINED IN THE SYSTEM, INCLUDING CATEGORIES OF USERS AND THE PURPOSES OF SUCH USES:

a. The information may be provided to the Department of Justice or other Federal agencies in connection with any investigation, or administrative or legal proceeding involving any violation or potential violation of any Federal law, rule, or regulation.

Information in this system may also be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, including paper copies of time and attendance worksheets, leave request slips and signed computer printouts. Electronic records are stored on the Commission's network and in other electronic media as needed, and certain computer files (STARweb) are located at the National Finance Center (NFC).

RETRIEVABILITY:

By the name of the employee or by the employee number, cross-indexed by name.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets. Only specifically authorized individuals may access the NFC computer system, and UserID and password are required.

RETENTION AND DISPOSAL:

Hard copy records, including leave slips, signed computer printouts from the STARweb system, overtime approval slips and budget account code worksheets are retained for six years, and then destroyed.

SYSTEM MANAGER AND ADDRESS:

Director, Office of Human Resources, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The individual about whom the record is maintained.

CFTC-5

SYSTEM NAME:

Employee Personnel/Payroll Records.

SYSTEM LOCATION:

This system is located in the Office of Human Resources, and the Office of General Counsel, Commodity Futures Trading Commission, Three Lafayette Centre, 1155 21st Street, NW., Washington, DC 20581 and on a computer system located in the Department of Agriculture's National Finance Center, New Orleans, LA.

CATEGORIES OF INDIVIDUALS COVERED BY THE SYSTEM:

All Commission employees.

CATEGORIES OF RECORDS IN THE SYSTEM:

Payroll related information for current Commission employees, including payroll and leave data for each employee relating to rate and amount of pay, leave and hours worked, and leave balances, tax and retirement deductions, life insurance and health insurance deductions, savings allotments, savings bonds and charity deductions, student loan repayment program information, other benefits information, mailing addresses and home addresses, direct deposit information, and copies of the Commission time and attendance reports as well as authorities relating to deductions, including salary offset under part 141 of the Commission's rules. The records maintained in the principal office for all employees may also include: (a.) Various summary materials received in computer printout form; (b.) Awards information; (c.) Recruitment, relocation or retention bonuses; and (d.) Training information.

The official personnel records maintained by the Commission are described in the system notices published by the Office of Personnel Management (OPM/GOVT-1 and OPM/GOVT-2), and are not included within this system. OPM/GOVT-1 is the General Personnel Records System for OPM. This system includes employee personal identifying information, such as name, date of birth, home address, mailing address, social security number, and home telephone. OPM/GOVT-2 is the OPM Employee Performance File System Records System, which covers employee performance ratings of record and conduct-related documents maintained by first line supervisors and managers. See https://www.opm.gov/fedregis/2006/71-061906-35363-a.htm.

AUTHORITY FOR MAINTENANCE OF THE SYSTEM:

44 U.S.C. 3101, Ethics in Government Act of 1978 (5 U.S.C. 7301APP); Executive Order Nos. 12674 (as modified by 12731), 12565, and 11222: 5 CFR parts 2634, 2635. (Personnel Financial Disclosure Requirements).

ROUTINE USES OF RECORDS MAINTAINED IN THE SYSTEM, INCLUDING CATEGORIES OF USERS AND THE PURPOSES OF SUCH USES:

a. The information may be provided to the Department of Justice, the Office of Personnel Management or other Federal agencies, or used by the Commission in connection with any investigation or administrative or legal proceeding involving any violation of Federal law or regulation thereunder.

b. Certain information will be provided, as required by law, to the Office of Child Support Enforcement, Administration for Children and Families, Department of Health and Human Services Federal Parent Locator System (FPLS) and Federal Tax Offset System to enable State jurisdictions to locate individuals and identify their income sources to establish paternity, establish and modify orders of support, and for enforcement action.

c. Certain information will be provided, as required by law, to the Office of Child Support Enforcement for release to the Social Security Administration for verifying social security numbers in connection with the operation of the FPLS by the Office of Child Support Enforcement.

d. Certain information will be provided, as required by law, to the Office of Child Support Enforcement for release to the Department of Treasury for purposes of administering the Earned Income Tax Credit Program (Section 32, Internal Revenue Code of 1986) and verifying a claim with respect to employment in a tax return.

e. The information may be provided to insurance companies providing, or proposing to bid on a solicitation to provide, health benefits to Commission employees. This data may include, but is not limited to: name, social security number, date of birth, age, gender, marital status, service computation date, date of initial appointment with the Commission, geographic location, standard metropolitan service area, home phone number, home address, of the Commission employee. For each enrolled dependent of the Commission employee, this information may include, but is not limited to: dependent's name, relationship of the dependent to the Commission employee, date of birth, age, gender, social security number, home address, marital status, student status, and handicap status where applicable. This information may be used to verify eligibility, pay claims, or provide accurate bids.

f. For employees who request repayment of student loans through the CFTC Student Loan Repayment Program, certain information will be provided to the organizations that hold the requesting employees' loan notes for the purpose of verifying outstanding loan amounts and administering such program.

Information in this system may also be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, and electronic records, including computer files, are stored on the Commission's network, the National Finance Center Personnel/Payroll System/CFTC-Network, and other electronic media as needed.

RETRIEVABILITY:

By the name or social security number of the employee.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets.

RETENTION AND DISPOSAL:

These records are maintained according to retention schedules prescribed by the General Records Schedule for each type of personnel/payroll record.

SYSTEM MANAGER(S) AND ADDRESS:

Director, Office of Human Resources, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individual about whom the record is maintained; personnel office records; and miscellaneous sources.

CFTC-6

SYSTEM NAME:

Employee Travel and Transportation Records.

SYSTEM LOCATION:

Employee travel records are part of the GovTrip System operated by the Northrop Grumman Mission Systems located at 12900 Federal Park System Drive, Fairfax, VA 22033. Access to these records is through Office of Financial Management, Commodity Futures Trading Commission, Three Lafayette Centre, 1155 21st Street, NW., Washington, DC 20581. The transit subsidy system is located in the Office of Management Operations, Commodity Futures Trading Commission, Three Lafayette Centre, 1155 21st Street, NW., Washington, DC 20581.

CATEGORIES OF INDIVIDUALS COVERED BY THE SYSTEM:

Any Commission member, employee, witness, expert, advisory committee member or non-Commission employee traveling on official business for the Commission and any Commission employee who applies for and receives a transit subsidy.

CATEGORIES OF RECORDS IN THE SYSTEM:

Travel records contain the name, social security number, address, destination, itinerary, mode and purpose of travel, dates, expenses, miscellaneous claims, amounts advanced, amounts claimed, and amounts reimbursed. Includes travel authorizations, travel vouchers, requests, receipts, invoices from credit card vendors' receipts, and other records. Transit subsidy records contain the employee's name, home address, office, office phone, the last four digits of the social security number, the mode of transportation, the monthly amount of transportation expenses, and the monthly amount received.

AUTHORITY FOR MAINTENANCE OF THE SYSTEM:

5 U.S.C. 5701-5752; 31 U.S.C. 1, et seq.; 44 U.S.C. 3101.

ROUTINE USES OF RECORDS MAINTAINED IN THE SYSTEM, INCLUDING CATEGORIES OF USERS AND THE PURPOSE OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders; electronic records, including computer files, are stored on the Commission's network, including GovTrip, and in other electronic media as needed.

RETRIEVABILITY:

By the name of the Commission member, employee witness, expert, advisory committee member or Commission employee traveling on official business for the Commission or the name of the employee applying for or receiving a transit subsidy and by the last four digits of the social security number.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets.

RETENTION AND DISPOSAL:

Travel records are retained for six years and three months after the period covered by the account. Records of travel that is non-Federally funded are retained for six years, three months. Transit subsidy applications maintained by Commission are retained for three years after the employee is no longer in the program or the application is superseded.

SYSTEM MANAGER(S) AND ADDRESS:

Deputy Director for Accounting and Financial Systems and Network Manager (travel and transportation records) and Director, Office of Management Operations (transit subsidy records), both at Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The individual on whom the record is maintained.

CFTC-7

SYSTEM NAME:

Formal Employment Discrimination Complaint and Reasonable Accommodation Files.

SYSTEM LOCATION:

The system is located in the Office of Equal Employment Opportunity Office (EEO), Commodity Futures Trading Commission, Three Lafayette Centre, 1155 21st St., NW., Washington, DC 20581.

CATEGORIES OF INDIVIDUALS COVERED BY THE SYSTEM:

Individuals or groups (employees or applicants), who believe they have been discriminated against, and/or subjected to harassment (sexual or non-sexual) on the basis of their race color, religion, sex (gender), national origin, age, disability (mental or physical), retaliation or sexual orientation. Employees seeking work-related accommodations for disabilities (mental/physical), and disabled applicants seeking accommodations to participate in the employment process.

CATEGORIES OF RECORDS IN THE SYSTEM:

Reports to Commission officials from supervisors, managers, or members of the Commission, the Equal Employment Opportunity Commission, and Congress relating to discrimination claims or concerning observed instances of sexual harassment; records relating to the complaint or incident, relating to any investigation, and to any disposition of the matter. Records of accommodation requests and the disposition of those requests. The potential contents of the system are not limited to complaints or other material under the Commission's Sexual Harassment Policy. Complaints concerning other forms of employment discrimination would be made part of this system.

AUTHORITY FOR MAINTENANCE OF THE SYSTEM:

29 CFR 1614.102(a); 5 U.S.C. Sec. 2302(b); 29 CFR 1614.203.

ROUTINE USES OF RECORDS MAINTAINED IN THE SYSTEM INCLUDING CATEGORIES OF USERS AND THE PURPOSES OF SUCH USES:

a. Information may be disclosed where the Commission or a present member of the Commission is a party to a lawsuit or the records are needed for investigatory purposes.

Information in this system may also be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Paper records are stored in file folders; electronic records, including computer files, are stored on the Commission's network and in other electronic media as needed.

RETRIEVABILITY:

Records are retrievable by the name of the complainant and/or the complainant case number for discrimination complaints, and by the applicant/employee name for reasonable accommodation requests.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access and specifically to access of these records to authorized individuals and maintenance of records in lockable offices and filing cabinets.

RETENTION AND DISPOSAL:

Records are destroyed four years after resolution of the discrimination complaint. Reasonable accommodation records are maintained throughout employment; retired at employee's retirement; destroyed four years after retirement.

SYSTEM MANAGER(S) AND ADDRESS:

Director, Office of Equal Employment Opportunity, Commodity Futures Trading Commission, Three Lafayette Centre, 1155 21st Street, NW., Washington, DC 20581.

NOTIFICATION PROCEDURE:

Individuals seeking to determine whether the system of records contains information about themselves, seeking access to records about themselves in the system of records or contesting the content of records about themselves should address written inquiries to the Office of General Counsel, Paralegal Specialist, Commodity Futures Trading Commission, Three Lafayette Centre, 1155 21st Street, NW., Washington, DC 20581. Telephone (202) 418-5011.

RECORD SOURCE CATEGORIES:

Internal complaints, internal investigations, reports of activity which apparently violates the Commission's Sexual Harassment Policy or other employment discrimination prohibitions, proceedings, as relevant, under the EEOC's Federal Sector Complaint Processing rules, 29 CFR Part 1614.

CFTC-8

SYSTEM NAME:

Employment Applications.

SYSTEM LOCATION:

This system is located in the Office of Human Resources, Commodity Futures Trading Commission, Three Lafayette Centre, 1155 21st Street, NW., Washington, DC 20581.

CATEGORIES OF INDIVIDUALS COVERED BY THE SYSTEM:

Applicants for positions with the Commission.

CATEGORIES OF RECORDS IN THE SYSTEM:

Contains the application and/or the resume of the applicant.

AUTHORITY FOR MAINTENANCE OF THE SYSTEM:

44 U.S.C. 3101.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE/RETRIEVABILITY:

Paper records are stored in file folders and electronic files submitted by applicants via e-mail to Employment@cftc.gov. The applicant tracking system is located on the CFTC Network. Summary information of applications is also available to staff of the Office of Human Resources through an automated applicant tracking system that can retrieve by announcement number or applicant name.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Also, access to applicant tracking system granted only to appropriate personnel. Physical measures include restrictions on building access to authorized individuals and maintenance of records in lockable offices and filing cabinets.

RETENTION AND DISPOSAL:

Most applicant records are retained for two years, then destroyed. If a review is pending by the Office of Personnel Management (OPM) or other authority, the records are retained until that review is completed.

SYSTEM MANAGER(S) AND ADDRESS:

Director, Office of Human Resources, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The individual on whom the record is maintained.

CFTC-9

SYSTEM NAME:

Emergency Locator System.

SYSTEM LOCATION:

This system is located in the Office of Human Resources, Commodity Futures Trading Commission, Three Lafayette Centre, 1155 21st Street, NW., Washington, DC 20581.

CATEGORIES ON INDIVIDUALS COVERED BY THE SYSTEM:

Employees and contractors of the Commission.

CATEGORIES OF RECORDS IN THE SYSTEM:

This system contains information regarding the organizational and telephone number of individual Commission employees and contractors. The system also contains the home address, telephone numbers, and personal e-mail address of the individual, and the names, home addresses, personal e-mail address, and telephone numbers of the individual(s) to contact in the event of a medical or other emergency concerning the CFTC employee or contractor.

AUTHORITY FOR MAINTENANCE OF THE SYSTEM:

5 U.S.C. 301

PURPOSES:

The purpose of this system is to maintain emergency contact names and contact information for individuals for use in the event that a medical or other emergency involving the individual occurs while the individual is employed or providing services to the Commission through contract.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, RETAINING, AND DISPOSING OF RECORDS IN THE SYSTEM:

STORAGE:

Paper records are stored in file folders; electronic records, including computer files, are stored on the Commission's network and in other electronic media as needed.

RETRIEVABILITY:

Records are retrieved by the name of the individual on whom they are maintained.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets. Also, these records are maintained in a secured area, available only to authorized personnel whose duties require access.

RETENTION AND DISPOSAL:

Records are maintained as long as the individual is an employee of, or providing services to, the Commission.

SYSTEM MANAGER AND ADDRESS:

Director, Office of Human Resources, Commodity Futures Trading Commission, Three Lafayette Centre, 1155 21st Street, NW., Washington, DC 20581. Telephone (202) 418-5013.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Information is provided by the individual who is the subject of the record.

CFTC-10

SYSTEM NAME:

Investigatory Records (exempted).

SYSTEM LOCATION:

This system is located in the Office of General Counsel and the Division of Enforcement in the Commission's principal office at Commodity Futures Trading Commission, Three Lafayette Centre, 1155 21st Street, NW., Washington, DC 20581, and in the Division of Enforcement in the regional offices in Chicago at 525 West Monroe Street, Suite 1100 Chicago, IL 60661; in Kansas City at Two Emanuel Cleaver II Blvd., Suite 300, Kansas City, MO 64112; and New York at 140 Broadway, 19th Floor, New York, NY 10005.

CATEGORIES OF INDIVIDUALS COVERED BY THE SYSTEM:

a. Individuals whom the Commission staff has reason to believe have violated, are violating, or are about to violate the Commodity Exchange Act and the rules, regulations and orders promulgated thereunder.

b. Individuals whom the Commission staff has reason to believe have violated, are violating or are about to violate a law or regulation or order of another Federal, State or foreign authority.

c. Individuals whom the Commission staff has reason to believe may have information concerning violations of the Commodity Exchange Act and the rules, regulations and orders promulgated thereunder.

d. Individuals involved in investigations authorized by the Commission concerning the activities of members of the Commission or its employees based upon formal complaint or otherwise.

e. Individuals whom the Commission staff has identified as relevant to an enforcement investigation, such as complainants, witnesses and counsel.

f. Individuals whom a foreign law enforcement authority has found or alleges to have, or suspects of having, violated foreign laws, rules, regulations or orders of such foreign law enforcement authority.

CATEGORIES OF RECORDS IN THE SYSTEM:

Investigatory materials compiled for law enforcement purposes whose disclosure the Commission staff has determined could impair the effectiveness and orderly conduct of the Commission's regulatory and enforcement program or compromise Commission investigations. This system may include all or any part of the records developed during the investigation or inquiry, including data from Commission reporting forms, account statements and other trading records, exchange records, bank records and credit information, business records, information available on the Internet or other electronic sources, reports of interviews, transcripts of testimony, exhibits to transcripts, affidavits, statements by witnesses, registration information, contracts and agreements. The system may also contain internal memoranda, reports of investigation, orders of investigation, subpoenas, warning letters, stipulations of compliance, correspondence, and other miscellaneous investigatory matters. The nature of the personal information contained in these files varies according to what is considered relevant by the attorney assigned based on the circumstances of the particular case under investigation, and may include personal background information about the individual involved, his education and employment history, information on prior violations, and a wide variety of financial information, as well as a detailed examination of the individual's activities during the period in question.

AUTHORITY FOR MAINTENANCE OF THE SYSTEM:

Commodity Exchange Act, 7 U.S.C. 1 et seq., including 7 U.S.C. 13a-1, authorizing injunctive actions, various provisions in that Act authorizing administrative actions, and the rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, binders, computer files (eLaw) and computer disks. Electronic records, including computer files, are stored on the Commission's network and on various other electronic media as needed, such as encrypted hard drives.

RETRIEVABILITY:

By assigned file name, which may be the matter number or the name of the person or firm that is the principal subject of the investigation. A summary index of material is also stored on the computer.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of certain records in secured filing rooms and/or locked filing cabinets. Also, all employees are made aware of the sensitive nature of investigatory information.

RETENTION AND DISPOSAL:

If an investigatory matter is closed without institution of a case, the files are maintained in off site storage for five years, and then destroyed. When the Commission moves forward from an investigation to litigation:

(a) Investigatory records that are disclosed by the Commission in the administrative, court or other proceedings become part of non-exempt CFTC-16, Enforcement Case Files and/or CFTC-17, Litigation Files—OGC, and are retained and disposed of pursuant to CFTC-16 and/or CFTC-17; and

(b) Investigatory records not disclosed in such proceedings are retained in exempt CFTC-10, Investigatory Records, and disposed of on the same schedule as the related non-exempt records under CFTC-16 or CFTC-17.

All Investigatory Records remain exempt from disclosure under the Privacy Act.

SYSTEM MANAGER(S) AND ADDRESS:

Director, Division of Enforcement and/or General Counsel, Office of the General Counsel in the Commission's principal office at Commodity Futures Trading Commission, Three Lafayette Centre, 1155 21st Street, NW., Washington, DC 20581 and Regional Counsels in the regional offices: in Chicago at 525 West Monroe Street, Suite 1100, Chicago, IL 60661; in Kansas City at Two Emanuel Cleaver II Blvd., Suite 300, Kansas City, MO 64112; and in New York at 140 Broadway, 19th Floor, New York, NY 10005.

RECORD SOURCE CATEGORIES:

Reporting forms and other information filed with the Commission; self-regulatory organizations; individuals or firms covered by the Commission's registration requirements; Federal, State and local regulatory and law enforcement agencies; banks, credit organizations and other institutions; corporations; individuals having knowledge of the facts; attorneys; publications; courts; and miscellaneous sources.

SYSTEMS EXEMPTED FROM CERTAIN PROVISIONS OF THE ACT:

The records in this system have been exempted by the Commission from certain provisions of the Privacy Act of 1974 pursuant to the terms of the Privacy Act, 5 U.S.C. 552a(k)(2), and the Commission's rules promulgated thereunder, 17 CFR 146.12. These records are exempt from the notification procedures, records access procedures, and record contest procedures set forth in the system notices of other systems of records, and from the requirement that the sources of records in the system be described.

CFTC-12

SYSTEM NAME:

Fitness Investigations.

SYSTEM LOCATION:

Records for floor brokers and floor traders with respect to matters commenced prior to August 1, 1994 are located in the Division of Clearing and Intermediary Oversight, Commodity Futures Trading Commission, Three Lafayette Centre, 1155 21st Street, NW., Washington, DC 20581. Records for futures commission merchants, introducing brokers, commodity pool operators, commodity trading advisors, their respective associated persons and principals, with active registration status in any capacity on or after October 1, 1983; leverage transaction merchants and their associated persons and principals with active registration status as such on or after August 1, 1994; floor brokers and floor traders with active registration status as such on or after August 1, 1994; and agricultural trade option merchants (ATOMs) and their associated persons are located at the National Futures Association (NFA), 300 South Riverside, Suite 1800, Chicago, Illinois 60606.

CATEGORIES OF INDIVIDUALS COVERED BY THE SYSTEM:

Individuals who have applied or who may apply for registration as futures commission merchants, introducing brokers, commodity pool operators, commodity trading advisors, leverage transaction merchants and ATOMs; individuals listed or who may be listed as principals (as defined in 17 CFR Part 3.1); individuals who have applied or who may apply for registration as associated persons of the foregoing firms; and floor brokers and floor traders.

CATEGORIES OF RECORDS IN THE SYSTEM:

Information pertaining to the fitness of the above-described individuals or firms to engage in business subject to the Commission's jurisdiction. The system contains information in computerized images or alpha-numeric format and hardcopy format including registration forms, schedules and supplements, fingerprint cards which are required for individual registrants except ATOMs, correspondence relating to registration, and reports and memoranda reflecting information developed from various sources. In addition, the system contains records of each fitness investigation.

AUTHORITY FOR MAINTENANCE OF THE SYSTEM:

The Commodity Exchange Act as amended, 7 U.S.C. 1 et seq., including Sections 4f(a)(1) and (2), 4k(4), 4k(5), 4n(1), 8a(1)-(5), 8a(10), 8a(11), 17(o) and 19, at 7 U.S.C. 6f(1), 6k(4), 6k(5), 6n(1), 12a(1)-(5), 12a(10), 12a(11), 21(o) and 23, and the rules and regulations promulgated under the Commodity Exchange Act.

ROUTINE USES OF RECORDS MAINTAINED IN THE SYSTEM INCLUDING CATEGORIES OF USERS AND THE PURPOSE OF SUCH USES:

a. Information contained in this system of records may be disclosed to any person with whom an applicant or registrant is or plans to be associated as an associated person or affiliated as a principal.

b. Information contained in this system of records may be disclosed to any registered futures commission merchant with whom an applicant or registered introducing broker has or plans to enter into a guarantee agreement in accordance with Commission regulation at 17 CFR Part 1.10.

Note: NFA may disclose information contained in those portions of this system of records, but any such disclosure must be made in accordance with NFA rules that have been approved by the Commission or permitted to become effective without Commission approval. The disclosure must be made under circumstances authorized by the Commission as consistent with the Commission's regulations and routine uses. No specific consent is required by an applicant or registered introducing broker to disclosure of information to the futures commission merchant with whom it has or plans to enter a guarantee agreement.

Information in this system may also be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders and binders. Electronic records, including computer files, are stored on the Commission's network, in the NFA Online Registration System (ORS), microfiche and various other electronic media as needed, such as encrypted hard drives.

RETRIEVABILITY:

By the name of the individual or firm, or by the assigned identification number. Where applicable, the NFA's computer cross-indexes the individual's file to the name of the futures commission merchant, introducing broker, commodity trading advisor, commodity pool operator, leverage transaction merchant or ATOMs with which the individual is associated or affiliated.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals, including limiting access to individuals whose official duties require access, and maintenance of records in lockable offices and filing cabinets.

RETENTION AND DISPOSAL:

Since 1991, when a fitness investigation is opened by NFA, applications, biographical supplements, other forms, related documents, correspondence and reports are immediately scanned, indexed and stored using computer imaging software so the information may be retrieved and printed. Imaged records are maintained indefinitely. Any hard copy originals are maintained by NFA for two years after imaged. Records retained by CFTC are held for ten years.

SYSTEM MANAGER(S) AND ADDRESS:

For records held by the Commission: Director, Division of Clearing and Intermediary Oversight, Commodity Futures Trading Commission, Three Lafayette Centre, 1155 21st Street, NW., Washington, DC 20581. For records held by NFA: Vice President for Registration, National Futures Association, 300 South Riverside, Suite 1800, Chicago, Illinois 60606.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

Individuals may also request registration information by telephone directly from the NFA information center at (800) 621-3570 or (312) 781-1410. Inquiries can also be made to NFA by fax at (312) 781-1459 or via the Internet at information@nfa.futures.org. NFA will query the ORS database system about current registration status and registration history, and will provide instructions on how to make written requests for copies of records. The Internet may be used to obtain information on current registration status and futures-related regulatory actions at http://www.nfa.futures.org by selecting “BASIC.”

RECORDS SOURCE CATEGORIES:

The individual or firm on whom the record is maintained; the individual's employer; Federal, State and local regulatory and law enforcement agencies; commodities and securities exchanges; NFA; National Association of Securities Dealers; foreign futures and securities authorities and INTERPOL; and other miscellaneous sources.

CFTC-13

SYSTEM NAME:

Interpretive, Exemptive, and No-Action Files.

SYSTEM LOCATION:

Most files are prepared by the Division of Clearing and Intermediary Oversight and are kept in that office. Public copies of the interpretative, exemptive and no-action letters, which may be redacted, are also kept in the Office of the Secretariat and the Office of Public Affairs, and are also available on the CFTC Web site (http://www.cftc.gov). All offices are located at the Commodity Futures Trading Commission, Three Lafayette Centre, 1155 21st Street, NW., Washington, DC 20581.

CATEGORIES OF INDIVIDUALS COVERED BY THE SYSTEM:

Individuals who have requested the Commission or its staff to provide interpretations, exemptions or no-action positions regarding the provisions of the Commodity Exchange Act or the Commission's regulations there under. The requests may have been made directly by an individual, or through the individual's attorney or other representative. A request may also be made on behalf of a registrant or other party that contains information about individuals employed by or affiliated with the registrant or other party. Registrants include futures commission merchants, introducing brokers, commodity pool operators, commodity trading advisors, agricultural trade option merchants, leverage transaction merchants, associated persons, floor brokers and floor traders.

CATEGORIES OF RECORDS IN THE SYSTEM:

Requests for interpretative, exemptive and no-action letters, supplemental correspondence, any related internal memoranda, other supporting documents and the responses to the requests.

AUTHORITY FOR MAINTENANCE OF THE SYSTEM:

The Commodity Exchange Act, 7 U.S.C. 1 et seq., and the rules and regulations promulgated thereunder, including 17 CFR Parts 140.98 and 140.99.

ROUTINE USES OF RECORDS MAINTAINED IN THE SYSTEM, INCLUDING CATEGORIES OF USERS AND THE PURPOSES OF SUCH USES:

a. Pursuant to the Commission's rules, 17 CFR Part 140.98, substantive interpretative, exemptive and no-action letters are made public and published by the Commission. Portions of such letters or information will be deleted or omitted to the extent necessary to prevent a clearly unwarranted invasion of personal privacy or to the extent they otherwise contain material considered nonpublic under the Freedom of Information Act and the Commission's rules implementing that Act.

b. Information in these files may be used as a reference in responding to later inquiries from the same party, in following up on earlier correspondence involving the same person, or when another person raises the same or similar issues.

Information in this system may also be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Paper records in file folders. Electronic records, including computer files, are stored on the Commission's network, including desktop applications and e-mail files. The redacted outgoing letter is maintained electronically on a shared drive.

RETRIEVABILITY:

The Division of Clearing and Intermediary Oversight has tracking systems in place. A division-wide database maintains information on all projects, including requests for exemptive, no-action and interpretive letters, and is completely searchable. In addition, each section within the Division of Clearing and Intermediary Oversight may maintain its own tracking system for requests that preceded the implementation of the division-wide system. Public copy files in the Office of the Secretariat and the Office of Public Affairs are filed by the name of the requester, even if another party makes the request on behalf of the requester.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets.

RETENTION AND DISPOSAL:

Letters signed by the Commission and unique, precedent-setting letters signed by staff are maintained for 20 years, then transferred to the National Archives and Records Administration as permanent records. Other letters signed by staff are destroyed after 15 years.

SYSTEM MANAGER(S) AND ADDRESS:

Director, Division of Clearing and Intermediary Oversight; Secretary to the Commission, Office of the Secretariat; and Director, Office of Public Affairs at Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals, corporations, limited liability companies, other business organizations, or representatives seeking interpretations of, exemptions from, or no-action opinions on the provisions of the Commodity Exchange Act or Commission rules.

CFTC-14

SYSTEM NAME:

Commodity Futures Trading Commission Alumni Records.

SYSTEM LOCATION:

This system is located in the Office of Human Resources, Commodity Futures trading Commission, Three Lafayette Centre, 1155 21st Street, NW., Washington, DC 20581.

CATEGORIES OF INDIVIDUALS COVERED BY THE SYSTEM:

Former employees of the Commission, and those who worked as contractors or were engaged in duties at the Commission.

CATEGORIES OF RECORDS IN THE SYSTEM:

This system contains information regarding former employees of the Commission including their names, position titles, office address and telephone number, and with the approval of the individual, home and/or business address, home and/or business telephone number, e-mail address, and other relevant data needed to keep in contact with the individual. This system will also contain similar information regarding contractors and other who were engaged in duties at the Commission.

AUTHORITY FOR MAINTENANCE OF THE SYSTEM:

5 U.S.C. 301.

PURPOSE:

The records are used by Commission staff to maintain contact with former Commission employees and others involved in Commission business. These records may be used to notify individuals of Commission events.

ROUTINE USES OF RECORDS MAINTAINED IN THE SYSTEM:

Information in this system may be disclosed in accordance with the blanket routine uses numbered 1 through 19 that appear at the beginning of the Commission's compilation of its systems of records notices.

POLICIES AND PRACTICES FOR STORING, RETRIEVING, AND DISPOSING OF RECORDS IN THE SYSTEM:

STORAGE:

Paper records are stored in file folders; electronic records, including computer files, are stored on the Commission's network and other electronic media as needed.

RETRIEVABILITY:

Records may be retrieved by the name or e-mail address of the individual.

SAFEGUARDS:

Records are protected from unauthorized access and improper use through administrative, technical and physical security measures. Technical security measures within CFTC include restrictions on computer access to authorized individuals, required use of strong passwords frequently changed, use of encryption for certain data types and transfers, and regular review of security procedures and best practices to enhance security. Physical measures include restrictions on building access to authorized individuals and maintenance of records in lockable offices and filing cabinets.

RETENTION AND DISPOSAL:

Information is retained until revised or deleted in accordance with General Records Schedule 13, Item 4b.

SYSTEM MANAGER AND ADDRESS:

Deputy Director, Office of Management Operations, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals about whom the records are maintained. Information will predominately be obtained directly from the individual in response to the Commission's request to have alumni respond regarding Commission events.

CFTC-15

SYSTEM NAME:

Large Trader Report Files (Integrated Surveillance System).

SYSTEM LOCATION:

This system is located in the Division of Market Oversight, in the Commission's principal office at Commodity Futures Trading Commission, Three Lafayette Centre, 1155 21st Street, NW., Washington, DC 20581; and in the regional offices at in Chicago at 525 West Monroe Street, Suite 1100 Chicago, IL 60661; and New York at 140 Broadway, 19th Floor, New York, NY 10005.

CATEGORIES OF INDIVIDUALS COVERED BY THE SYSTEM:

Individuals holding reportable positions as defined in 17 CFR Parts 17, 18 and 19.

CATEGORIES OF RECORDS IN THE SYSTEM:

1. Reports filed by the individual holding the reportable position:

a. Statements of Reporting Trader (CFTC Form 40) contains information described in part 18 of the Commission's rules and regulations, including the name, address, number, and principal occupation of the reporting trader, financial interest in and control of commodity futures accounts, and information about the trader's business associations;

b. Large trader reporting contains information described in part 18 of the Commission's rules and regulations, including the trader's identifying number, previous open contracts, trades and deliveries that day, open contracts at the end of the day, and classification as to speculation or hedging (available on a non-routine basis by special call);

c. Large trader reporting form (Series 04 Form). Contains information described in part 19 of the Commission's rules and regulations, to be filed by merchants, processors and dealers in commodities that have Federally imposed speculative position limits. Includes trader's identifying number, stocks owned, fixed price sale and purchase commitments. These reports are filed in the Commission office in the city where the reporting trader is located. If there is no Commission office in that city, the reports are filed according to specific instructions of the Commission.

2. Reports to be filed by futures commission merchants, members of contract markets, foreign brokers and, for large option traders, by contract markets.

a. Identification of “Special Accounts” (CFTC Form 102). Contains material described in part 17 of the Commission's rules and regulations. Includes the name, address, and the occupation of a customer whose accounts have reached the reporting level. Also includes the account number that the futures commission merchant uses to identify this customer on the firm's 01 report (see next paragraph), and whether the customer has control of or financial interest in accounts of other traders.

b. Large trader reporting form (Series 01 Form). Contains material described in part 17 of the Commission's rules and regulations, for each “special account.” Shows customer account number, reportable position held in each commodity future and option, and information concerning deliveries and exchanges of futures for physicals by individuals with reportable positions.

3. Computer records prepared from information on the forms described in items (1) and (2) above.

4. Correspondence and memoranda of telephone conversations between the Commission and the individual or between the Commission and other agencies dealing with matters of official business concerning the individual.

5. Other miscellaneous information, including intra-agency correspondence and memoranda concerning the individual and documents relating to official actions taken by the Commission against the individual.

6. Reports of Positions and Transactions of Clearing Member Firms. Information is provided in electronic transmission and is readable on the Internet and contains the data prescribed in section 16 of the Commission's regulations. The information includes an identification number for each clearing member, open contracts at the firm for proprietary and customer accounts and transactions such as trades, exchanges of futures for physicals, delivery notices issued and received, and transfers and option exercises. The information is filed in the city where the exchange is located or as instructed by the Commission.

AUTHORITY FOR MAINTENANCE OF THE SYSTEM:

The Commodity Exchange Act, 7 U.S.C. 1 et seq., including Sections 4g, 4i, and 8 of that Act, at 7 U.S.C. 6g, 6i and 12, and the rules and regulations promulgated thereunder.

ROUTINE USES OF RECORDS MAINTAINED IN THE SYSTEM, INCLUDING CATEGORIES OF USERS AND THE PURPOSES OF SUCH USES:

a. Information concerning traders and their activities may be disclosed and made public by the Commission to the extent permitted by law when deemed appropriate to further the practices and policies of the Commodity Exchange Act.

Information in this system may also be disclosed in accordance with the blanket routine uses numbered 1 through 19 that appear at the beginning of the Commission's compilation of its systems of records notices.

POLICIES AND PRACTICES FOR STORING, RETRIEVING, ACCESSING, RETAINING, AND DISPOSING OF THE RECORDS IN THE SYSTEM:

STORAGE:

Paper records are stored in file folders, loose-leaf binders and similar paper filing methods, and electronic records, including computer files and the Integrated Surveillance System, are stored on Commission's network and other electronic media as needed.

RETRIEVABILITY:

CFTC Form 40, CFTC Form 102, correspondence and other miscellaneous information are maintained directly under the name of the reporting trader. The series 01 and 04 forms are maintained by identifying code number. However, information from these forms is included in the computer and retrievable by individual identifier.

SAFEGUARDS:

Records are protected from unauthorized access and improper use through administrative, technical and physical security measures. Technical security measures within CFTC include restrictions on computer access to authorized individuals, strong passwords frequently changed, use of encryption for certain data types and transfers, and regular review of security procedures and best practices to enhance security. Further, access to these records is limited to those individuals whose official duties require access, through security features built into the Integrated Surveillance System. Physical measures include restrictions on building access to authorized individuals and maintenance of records in lockable offices and filing cabinets.

RETENTION AND DISPOSAL:

CFTC Form 40, CFTC Form 102, correspondence, memoranda, etc. are retained on the premises until the account has been inactive for five years and are then destroyed. Form 01 and 04 reports are maintained for six months on the premises and then held in offsite storage for five years before being destroyed. The computer file is maintained for ten years for Form 01 and 04. Clearing member positions and transactions are maintained for three years. Trader code numbers and related information are maintained for five years after a trader becomes non-reportable. Account numbers assigned by an futures commission merchant are maintained on the system for one year after the account is no longer reported.

SYSTEM MANAGER(S) AND ADDRESS:

Chief, Market Surveillance Section, Division of Market Oversight, Commodity Futures Trading Commission, Three Lafayette Centre, 1155 21st Street, NW., Washington, DC 20581; and Surveillance Branch Chiefs in the regional offices in Chicago at 525 West Monroe Street, Suite 1100 Chicago, IL 60661; and New York at 140 Broadway, 19th Floor, New York, NY 10005.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The individual on whom the record is maintained and futures commission merchants through whom the individual trades. Correspondence and memoranda prepared by the Commission or its staff. Correspondence from firms, agencies, or individuals requested to provide information on the individual.

CFTC-16

SYSTEM NAME:

Enforcement Case Files.

SYSTEM LOCATION:

This system is located in the Division of Enforcement in the Commission's principal office at Commodity Futures Trading Commission, Three Lafayette Centre, 1155 21st Street, NW., Washington, DC 20581, and in the Division of Enforcement in the regional offices in Chicago at 525 West Monroe Street, Suite 1100 Chicago, IL 60661; in Kansas City at Two Emanuel Cleaver II Blvd., Suite 300, Kansas City, MO 64112; and New York at 140 Broadway, 19th Floor, New York, NY 10005.

CATEGORIES OF INDIVIDUALS COVERED BY THE SYSTEM:

a. Individuals or firms against whom the Commission has taken enforcement action based on violations of the Commodity Exchange Act or the rules and regulations promulgated thereunder.

b. Individuals whom the Commission staff has identified as relevant to an enforcement investigation, such as complainants, witnesses and counsel.

CATEGORIES OF RECORDS IN THE SYSTEM:

Copies of various public papers filed by or with the Commission or the courts in connection with administrative proceedings or injunctive actions brought by the Commission. Records include, at a minimum, a copy of the complaint, motions filed, exhibits and the final decision, and order.

AUTHORITY FOR MAINTENANCE OF THE SYSTEM:

These files are necessary for the orderly and effective conduct of litigation authorized under the Commodity Exchange Act and other Federal statutes. The Commodity Exchange Act, 7 U.S.C. 1 et seq., including section 6c of that Act at 7 U.S.C. 13a-1, section 6(c) of that Act at 7 U.S.C. 9, and the rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, binders, computer files (eLaw) and computer disks. Electronic records, including computer files, are stored on the Commission's network and on various other electronic media as needed, such as encrypted hard drives. A summary index of material is also stored on the computer network.

RETRIEVABILITY:

By case title or in some instances by docket number.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

After an action is complete, the complaint and any final decision or dispositive orders are kept indefinitely at the headquarters office. Most case files are destroyed after 15 years; unique, precedent-setting cases are offered to the National Archives and Records Administration for permanent retention after 20 years.

SYSTEM MANAGER AND ADDRESS:

Director, Division of Enforcement, Commodity Futures Trading Commission, Three Lafayette Centre, 1155 21st Street, NW., Washington, DC 20581 and Regional Counsels in the regional offices: in Chicago at 525 West Monroe Street, Suite 1100 Chicago, IL 60661; in Kansas City at Two Emanuel Cleaver II Blvd., Suite 300, Kansas City, MO 64112; and in New York at 140 Broadway, 19th Floor, New York, NY 10005.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The parties, their attorneys, the Commission's Office of Proceedings, the relevant court, and miscellaneous sources.

CFTC-17

SYSTEM NAME:

Litigation Files—OGC.

SYSTEM LOCATION:

This system is located in the Office of the General Counsel, Commodity Futures Trading Commission, Three Lafayette Centre, 1155 21st Street, NW., Washington, DC 20581.

CATEGORIES OF INDIVIDUALS COVERED BY THE SYSTEM:

Parties involved in litigation with the Commission or litigation in which the Commission has an interest including, but not limited to:

a. Administrative proceedings before the Commission, including appeals from staff determinations of requests made under FOIA and the Privacy Act;

b. Federal court cases to which the Commission is a party;

c. Litigation in which the Commission is participating as amicus curiae; and

d. Other cases involving issues of concern to the Commission, including those brought by other law enforcement and regulatory agencies and those brought by private parties.

CATEGORIES OF RECORDS IN THE SYSTEM:

Public papers filed in litigation as described above, including appellate and amicus curiae briefs, motions, and final decisions and orders.

AUTHORITY FOR MAINTENANCE OF THE SYSTEM:

The Commodity Exchange Act, 7 U.S.C. 1, et seq., and the rules and regulations promulgated pursuant to the Commodity Exchange Act, entrust the Commission with broad regulatory responsibilities over commodity futures transactions. In this connection, the Commission is authorized to bring both administrative proceedings and injunctive actions where there appear to have been violations of the Act. Furthermore, to effectuate the purposes of the Act, it is necessary that the Commission staff be familiar with developments in other actions brought by others that have implications in the commodity law areas.

ROUTINE USES OF RECORDS MAINTAINED IN THE SYSTEM, INCLUDING CATEGORIES OF USERS AND THE PURPOSES OF SUCH USES:

The information in these files is generally a matter of public record and may be disclosed without restriction. Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, binders, computer files (eLaw) and computer disks. Electronic records, including computer files, are stored on the Commission's network and on various other electronic media as needed, such as encrypted hard drives.

RETRIEVABILITY:

Alphabetically by caption of the case.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Maintained in the active files until the action is completed, including final review at the appellate level. Thereafter, transferred to the inactive case files, where a skeletal record of pleadings, briefs, findings, and opinions and other particularly relevant papers may be maintained. These records are maintained on premises for five years, and then transferred to off-site storage. Most case files are destroyed after 15 years; unique precedent-setting cases are transferred to the National Archives for permanent retention. A copy of some of the documents may be kept in precedent files for use in later legal research or preparation of filings in other matters.

SYSTEM MANAGER AND ADDRESS:

Deputy General Counsel for Litigation, Office of the General Counsel, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The court or regulatory authority before which the action is pending, the attorneys for one of the named parties, and miscellaneous sources.

CFTC-18

SYSTEM NAME:

Logbook on Speculative Limit Violations.

SYSTEM LOCATION:

This system is located in the Division of Market Oversight, in the Commission's principal office at Commodity Futures Trading Commission, Three Lafayette Centre, 1155 21st Street, NW., Washington, DC 20581; and is accessible in the regional offices in Chicago at 525 West Monroe Street, Suite 1100, Chicago, IL 60661; and New York at 140 Broadway, 19th Floor, New York, NY 10005.

CATEGORIES OF INDIVIDUALS COVERED BY THE SYSTEM:

Individuals who have exceeded and who have potentially exceeded speculative limits in a particular fiscal year.

CATEGORIES OF RECORDS IN THE SYSTEM:

The records consist of a sequential listing, by year, of the possible violations and confirmed violations of speculative limits imposed by the Commission and the exchanges. The logbook records the date notification is sent to traders and/or exchanges, the due date for reply and the date the response is received. It includes the trader's name and assigned trader ID, the commodity (code) involved, and the type of violation. Copies of referral letters, warning letters and replies pertaining to the violation listed are scanned and become part of the electronic record.

AUTHORITY FOR MAINTENANCE OF THE SYSTEM:

The Commodity Exchange Act, 7 U.S.C. 1 et seq., including Sections 4i and 8 of that Act at 7 U.S.C. 6i and 12, and the rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders. Electronic records, including computer files, are stored on the Commission's network and in other electronic media as needed.

RETRIEVABILITY:

By any of the available data fields as noted above under “Categories of Records in the System,” e.g., trader's name and assigned trader ID, the commodity (code) involved, the type of violation, and dates for tracking referral letters, other correspondence and reports.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Files are destroyed five years after the end of the fiscal year that the records covered.

SYSTEM MANAGER(S) AND ADDRESS:

Market Surveillance Market Information Group Management in the regional offices in Chicago at 525 West Monroe Street, Suite 1100 Chicago, IL 60661; and New York at 140 Broadway, 19th Floor, New York, NY 10005.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Large Trader reports filed by reporting firms and reporting markets. Correspondence prepared by the Commission or by the individual or individual's representative.

CFTC-20

SYSTEM NAME:

Registration (Registration of Floor Brokers, Floor Traders, Futures Commission Merchants, Introducing Brokers, Commodity Trading Advisors, Commodity Pool Operators, Leverage Transaction Merchants, Agricultural Trade Option Merchants and Associated Persons).

SYSTEM LOCATION:

This system is located at the National Futures Association (NFA), 300 South Riverside, Suite 1800, Chicago, IL 60606.

CATEGORIES OF INDIVIDUALS COVERED BY THE SYSTEM:

Individuals who have applied or who may apply for registration as futures commission merchants, introducing brokers, commodity pool operators, commodity trading advisors, leverage transaction merchants and agricultural trade option merchants (ATOMs); individuals listed or who may be listed as principals (as defined in 17 Part CFR 3.1); individuals who have applied or who may apply for registration as associated persons of the foregoing firms; and floor brokers and floor traders.

CATEGORIES OF RECORDS IN THE SYSTEM:

Information pertaining to the registration and fitness of the above-described individuals, except ATOMs, to engage in business subject to the Commission's jurisdiction. Information on ATOMs includes only the names and registration status of ATOMs and their associated persons. The system includes registration forms, schedules, and supplements; correspondence relating to registration; and reports and memoranda reflecting information developed from various sources.

Computerized systems, consisting primarily of information taken from the registration forms, are maintained by NFA. Computer records include the name, date and place of birth, social security number (optional), exchange trading privileges (floor brokers and floor traders only), firm affiliation, and the residence or business address, or both, of each associated person, floor broker, floor trader and principal. Computer records also include information relating to name, trade name, principal office address, records address, names of principals and branch managers of futures commission merchants, introducing brokers, commodity pool operators, commodity trading advisors, leverage transaction merchants, and ATOMs.

Firm directories, business address, telephone number, registration category, and effective date of registration of futures commission merchants, introducing brokers, commodity pool operators and commodity trading advisors may be sold to the public by the NFA. These directories provide registration forms and biographical supplements, except for any confidential information on supplementary attachments to the forms, are publicly available for disclosure, inspection and copying.

AUTHORITY FOR MAINTENANCE OF THE SYSTEM:

The Commodity Exchange Act, 7 U.S.C. 1 et seq., including Sections 4f(a)(1) and (2), 4k(4), 4k(5), 4n(1), 8a(1), 8a(5), 8a(10) and 19 of the Commodity Exchange Act as amended, at 7 U.S.C. 6f(1), 6k(4), 6k(5), 6n(1), 12a(1), 12a(5), 12a(10), and 23, and the rules and regulations promulgated thereunder.

ROUTINE USES OF THE RECORDS MAINTAINED IN THE SYSTEM, INCLUDING CATEGORIES OF USERS AND THE PURPOSES OF SUCH USES:

a. Information contained in this system of records may be disclosed to any person with whom an applicant or registrant is or plans to be associated as an associated person or affiliated as a principal.

b. Information contained in this system of records may be disclosed to any registered futures commission merchant with whom an applicant or registered introducing broker has entered or plans to enter into a guarantee agreement in accordance with Commission regulation at 17 CFR Part 1.10.

Information in this system may also be disclosed in accordance with the blanket routine uses numbered 1 through 19 that appear at the beginning of the Commission's compilation of its systems of records notices.

Note: NFA may disclose information contained in those portions of this system of records maintained by NFA, but any such disclosure must be made in accordance with NFA rules that have been approved by the Commission or permitted to become effective without Commission approval. Disclosures must be made under circumstances authorized by the Commission as consistent with the Commission's regulations and routine uses. No specific consent is required by an applicant or registered introducing broker for disclosure of information to the futures commission merchant with whom it has or plans to enter a guarantee agreement.

POLICIES AND PRACTICES FOR STORING, RETRIEVING, ACCESSING, RETAINING, AND DISPOSING OF RECORDS IN THE SYSTEM:

STORAGE:

Paper records are stored in file folders and binders. Electronic information, including computer files, are stored on the Commission's network, in the NFA Online Registration System (ORS)), microfiche and various other electronic media as needed.

RETRIEVABILITY:

By the name of the individual or firm, or by assigned identification number. Where applicable, the NFA's computer cross-indexes the individual's primary registration file to the name of the futures commission merchant, introducing broker, commodity trading advisor, commodity pool operator, leverage transaction merchant or ATOM with whom the individual is associated or affiliated.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Since 2002, registration application records have primarily been managed electronically through ORS. ORS electronic records are maintained indefinitely, and are updated periodically as long as the individual has a registration application pending, is registered in any capacity, or is affiliated with any registrant in any capacity. ORS records on individuals who may apply are maintained indefinitely.

Hard copy records generated prior to 2002 are also maintained indefinitely, as is an electronic index and summary of these hard copy records.

SYSTEM MANAGER(S) AND ADDRESS:

Vice President for Registration, National Futures Association (NFA), 300 South Riverside, Suite 1800, Chicago, IL 60606.

NOTIFICATION PROCEDURE:

Individuals may also request registration information by telephone from the NFA information center at (800) 621-3570 or (312) 781-1410. Inquiries can also be made to NFA by fax at (312) 781-1459 or via e-mail at information@nfa.futures.org. NFA will query the ORS system about current registration status and registration and disciplinary history, and will provide instructions on how to make written requests for copies of records. The Internet may be used to obtain information on current registration status and futures-related regulatory actions at http://www.nfa.futures.org by selecting “BASIC.”

RECORD SOURCE CATEGORIES:

The individual or firm on whom the record is maintained; the individual's employer; and other miscellaneous sources. The computer records are prepared from the forms, supplements, attachments and related documents submitted to the NFA.

CFTC-28

SYSTEM NAME:

Self-Regulatory Organization Disciplinary Action Files.

SYSTEM LOCATION:

This system is located in the Division of Market Oversight, Commodity Futures Trading Commission, Three Lafayette Centre, 1155 21st Street NW., Washington, DC 20581; in the regional offices in Chicago at Chicago at 525 West Monroe Street, Suite 1100 Chicago, IL 60661 and New York at 140 Broadway, 19th Floor, New York, NY 10005; and at the National Futures Association (NFA), 300 South Riverside, Suite 1800, Chicago, IL 60606.

CATEGORIES OF INDIVIDUALS COVERED BY THE SYSTEM:

Individuals who have been suspended, expelled, disciplined, or denied access to or by a self-regulatory organization (SRO).

CATEGORIES OF RECORDS IN THE SYSTEM:

Information pertaining to a disciplinary or other adverse action taken by an SRO, including the name of the person against whom such action was taken, the action taken, and the reasons therefore. The information is maintained on a computerized system, the Background Affiliation Status Information Center (BASIC), and consists primarily of data furnished by NFA and other SROs.

AUTHORITY FOR MAINTENANCE OF THE SYSTEM:

44 U.S.C. 3101; the Commodity Exchange Act, 7 U.S.C. 1 et seq., including Section 8c(a)(1) of the Commodity Exchange Act, at 7 U.S.C. 12c(a)(1), and the rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders and binders. Electronic information, including computer files, is stored on the Commission's network, the NFA Website/BASIC, and other electronic media as needed.

RETRIEVABILITY:

By the name of the individual or firm, or by an NFA identification number.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Records are retained indefinitely.

SYSTEM MANAGER(S) AND ADDRESS:

Deputy Director, Division of Market Oversight, Commodity Futures Trading Commission, Three Lafayette Centre, 1155 21st Street, NW., Washington, DC 20581; Surveillance Branch Chiefs in the regional offices in Chicago at 525 West Monroe Street, Suite 1100 Chicago, IL 60661 and New York at 140 Broadway, 19th Floor, New York, NY 10005; and Vice President for Registration, National Futures Association, 300 South Riverside, Suite 1800, Chicago, IL 60606.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Self-regulatory organizations notifying the Commission of disciplinary or other adverse actions taken.

CFTC-29

SYSTEM NAME:

Reparations Cases Closed in the Complaints Section.

SYSTEM LOCATION:

This system is located in the Office of Proceedings, Commodity Futures Trading Commission, Three Lafayette Centre, 1155 21st Street, NW., Washington, DC 20581.

CATEGORIES OF INDIVIDUALS COVERED BY THE SYSTEM:

Individuals filing reparations complaints, as well as the firms and individuals named in the complaints.

CATEGORIES OF RECORDS IN THE SYSTEM:

Reparations complaints, answers, supporting documentation and correspondence filed with the Office of Proceedings. If the complaint is forwarded for decision by an administrative law judge or judgment officer, records become part of CFTC-3, Docket Files for Reparations and Administrative Adjudication.

AUTHORITY FOR MAINTENANCE OF THE SYSTEM:

The Commodity Exchange Act, 7 U.S.C. 1 et seq., including Section 14 of the Commodity Exchange Act, at 7 U.S.C. 18; 44 U.S.C. 3101, and the rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders, manual and paper docket cards; electronic records, including computer files, are stored on the Commission's network and other electronic media as needed.

RETRIEVABILITY:

By docket number and cross-indexed by the name of the complainant and respondent.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

The records are maintained for ten years after the case is closed, except that complaints, decisions, and Commission opinions and orders, are retained permanently. Records concerning reparations complaints that are not accepted are maintained for three years.

SYSTEM MANAGER(S) AND ADDRESS:

Futures Trading Specialist, Complaints Section, Office of Proceedings, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals filing reparations complaints or answers.

CFTC-30

SYSTEM NAME:

Open Commission Meetings.

SYSTEM LOCATION:

This system is located in the Office of the Secretariat, Commodity Futures Trading Commission, Three Lafayette Centre, 1155 21st Street, NW., Washington, DC 20581.

CATEGORIES OF INDIVIDUALS COVERED BY THE SYSTEM:

Individuals who are the subject of discussion at a Commission meeting open for public observation.

CATEGORIES OF RECORDS IN THE SYSTEM:

Information pertaining to the individuals who are the subject of discussion at an open Commission meeting.

AUTHORITY FOR MAINTENANCE OF THE SYSTEM:

Government in the Sunshine Act, 5 U.S.C. 552b(f); the Commodity Exchange Act, 7 U.S.C. 1 et seq., and rules and regulations promulgated thereunder, including Commission regulations at 17 CFR Part 147.7.

ROUTINE USES OF RECORDS MAINTAINED IN THE SYSTEM, INCLUDING CATEGORIES OF USERS AND THE PURPOSES OF SUCH USES:

The information in these files is a matter of public record and may be disclosed without restriction. Information in this system may also be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Paper records are stored in file folders; electronic records, including computer files, are stored on the Commission's network, in desktop applications and CommMinutes. Information is also stored on microfiche, in audiocassette tapes, CDs and DVDs.

RETRIEVABILITY:

These records that include recordings, transcripts, and minutes of all Commission meetings are organized and retrieved either by year in chronological order or by the names of the individuals, firms, exchanges, or other topics that are discussed at the meetings.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Maintained on the Commission premises for at least the statutory period required by the Sunshine Act and Commission regulations (at least two years after each meeting or at least one year after the conclusion of any agency proceeding with respect to which the meeting or portion of the meeting was held, whichever is later); transferred to the National Archives as permanent records when 20 years old.

SYSTEM MANAGER(S) AND ADDRESS:

Secretary of the Commission, Office of the Secretariat, Commodity Futures Trading Commission, Three Lafayette Centre, 1155 21st Street, NW., Washington, DC 20581.

NOTIFICATION PROCEDURES:

Individuals seeking to determine whether this system of records contains information about themselves, seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The staff in one or more Divisions generates the information recorded during Commission meetings concerning individuals who are the subject of discussion at the meetings. The indices are prepared from the recordings, transcripts and/or minutes.

CFTC-31

SYSTEM NAME:

Closed Commission Meetings (exempted).

SYSTEM LOCATION:

This system is located in the Office of the Secretariat, Commodity Futures Trading Commission, Three Lafayette Centre, 1155 21st Street, NW., Washington, DC 20581.

CATEGORIES OF INDIVIDUALS COVERED BY THE SYSTEM:

Individuals who are the subject of discussion at a closed Commission meeting.

CATEGORIES OF RECORDS IN THE SYSTEM:

Information pertaining to individuals who are the subject of discussion at a closed Commission meeting. This information consists of (a) investigatory materials compiled for law enforcement purposes whose disclosure the Commission has determined could impair the effectiveness and orderly conduct of the Commission's regulatory, enforcement and contract market surveillance programs or compromise Commission investigations, or (b) investigatory materials compiled solely for the purpose of determining suitability, eligibility, or qualifications for employment with the Commission to the extent that it identifies a confidential source.

AUTHORITY FOR MAINTENANCE OF THE SYSTEM:

Government in the Sunshine Act, 5 U.S.C. 552b(f); the Commodity Exchange Act, 7 U.S.C. 1 et seq., and the rules and regulations promulgated thereunder, including Commission regulations at 17 CFR Part 147.7.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Paper records are stored in file folders; electronic records, including computer files, are stored on the Commission's network, in desktop applications and CommMinutes, and other electronic media as needed. Information is also stored on microfiche, in audiocassette tapes, CDs and DVDs.

RETRIEVABILITY:

These records that include recordings, transcripts, and minutes of all Commission meetings are organized and retrieved either by year in chronological order or by the name of the individuals, firms, exchanges, or other topics discussed at the meetings.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Maintained on the Commission premises for at least the statutory period required by the Sunshine Act and Commission regulations (at least two years after each meeting or at least one year after the conclusion of any agency proceeding with respect to which meeting was held, whichever is later); transferred to the National Archives as permanent records when 20 years old.

SYSTEM MANAGER(S) AND ADDRESS:

Secretary of the Commission, Office of the Secretariat, Commodity Futures Trading Commission, Three Lafayette Centre, 1155 21st Street, NW., Washington, DC 20581.

SYSTEM EXEMPTED FROM CERTAIN PROVISIONS OF THE ACT:

The records in this system have been exempted by the Commission from certain provisions of the Privacy Act of 1974 pursuant to the terms of the Privacy Act, 5 U.S.C. 552a, and the Commission's rules promulgated thereunder, 17 CFR Part 146.12. These records are exempted from the notification procedures, record access procedures and record contest procedures set forth in the system notices of other record systems, and from the requirement that the source of records in the system be described.

CFTC-32

SYSTEM NAME:

Office of the Inspector General Investigative Files (exempted).

SYSTEM LOCATION:

This system is located in the Office of the Inspector General, Commodity Futures Trading Commission, Three Lafayette Centre, 1155 21st Street NW., Washington, DC 20581.

CATEGORIES OF INDIVIDUALS COVERED BY THE SYSTEM:

Individuals who are part of an investigation of fraud and abuse concerning Commission programs or operations.

CATEGORIES OF RECORDS IN THE SYSTEM:

All correspondence relevant to the investigation; all internal staff memoranda, copies of all subpoenas issued during the investigation, affidavits, statement from witnesses, transcripts of testimony taken in the investigation and accompanying exhibits; documents and records or copies obtained during the investigation; opening reports, progress reports and closing reports; and an index of individuals investigated.

AUTHORITY FOR MAINTENANCE OF THE SYSTEM:

Commodity Exchange Act, 7 U.S.C. 1 et seq., and regulations, rules or orders issued thereunder; Public Law 95-452, as amended, 5 U.S.C. App. 3.

ROUTINE USES OF RECORDS MAINTAINED IN THE SYSTEM, INCLUDING CATEGORIES OF USERS AND THE PURPOSES OF SUCH USES:

a. The information in the system may be disclosed by the Commission in any administrative proceeding before the Commission, in any injunctive action, or in any other action or proceeding authorized under the Commodity Exchange Act or the Inspector General Act of 1978 in which the Commission or any member of the Commission or its staff participates as a party or the Commission participates as amicus curiae.

b. In any case in which records in the system indicates a violation or potential violation of law, whether civil, criminal or regulatory in nature, whether arising by general statute or particular program statute, or by regulation, rule or order issued pursuant thereto, the relevant records may be referred to the appropriate agency, whether Federal, foreign, State or local, charged with enforcing or implementing the statute, regulation, rule or order.

c. In any case in which records in the system indicate a violation or potential violation of law, whether civil, criminal or regulatory in nature, the relevant records may be referred to the appropriate board of trade designated as a contract market by the Commission or to the appropriate futures association registered with the Commission, if the Office of the Inspector General has reason to believe this will assist the contract market or registered futures association in carrying out its self-regulatory responsibilities under the Commodity Exchange Act, 7 U.S.C. 1 et seq., and regulations, rules or orders issued pursuant thereto, and such records may also be referred to any national securities exchange or national securities association registered with the Securities and Exchange Commission, to assist those organizations in carrying out their self-regulatory responsibilities under the Securities Exchange Act of 1934, 15 U.S.C. 78a et seq., and regulations, rules or orders issued pursuant thereto.

d. The information may be given or shown to anyone during the course of an Office of the Inspector General (OIG) investigation if the staff has reason to believe that disclosure to the person will further the investigation. Information may also be disclosed to Federal, foreign, State or local authorities in order to obtain information or records relevant to an OIG investigation.

e. The information may be given to independent auditors or other private firms with which the OIG has contracted to carry out an independent audit, or to collate, aggregate or otherwise refine data collected in the system of records. These contractors will be required to maintain Privacy Act safeguards with respect to such records.

f. The information may be disclosed to a Federal, foreign, State or local government agency where records in either system of records pertain to an applicant for employment, or to a current employer of that agency where the records are relevant and necessary to an agency decision concerning the hiring or retention of an employee or disciplinary or other administrative action concerning an employee.

g. The information may be disclosed to a Federal, foreign, State, or local government agency in response to its request in connection with the issuance of a security clearance, the letting of a contract, or the issuance of a license, grant or other benefit by the requesting agency, to the extent that the information is relevant and necessary to the requesting agency's decision in the matter.

h. The information may be disclosed to the Department of Justice or other counsel to the Commission for legal advice or to pursue claims and to government counsel when the defendant in litigation is (a) any component of the Commission or any member or employee of the Commission in his or her official capacity, or (b) the United States or any agency thereof.

Information in this system may also be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders; electronic records, including computer files, are stored on the Commission's network, including desktop applications, and other electronic media as needed.

RETRIEVABILITY:

Investigative files are retrieved by the subject matter of the investigation or by case file number. An index provides a cross-reference on individuals investigated.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets. These records are kept in limited access areas during duty hours and in file cabinets in locked offices at all other times. These records are available only to those individuals whose official duties require such access.

RETENTION AND DISPOSAL:

The Office of the Inspector General Investigative Files and the index to the files are destroyed 20 years after the case is closed.

SYSTEM MANAGER(S) AND ADDRESS:

Inspector General, Office of the Inspector General, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Information in these records is supplied by: Individuals including, where practicable, those to whom the information relates; witnesses, corporations and other entities; records of individuals and of the Commission; records of other entities; Federal, foreign, State or local bodies and law enforcement agencies; documents, correspondence relating to litigation, and transcripts of testimony; and miscellaneous other sources.

SYSTEM EXEMPTIONS FROM CERTAIN PROVISIONS OF THE PRIVACY ACT:

Under 5 U.S.C. 552a(j)(2), the Office of the Inspector General Investigative Files are exempted from 5 U.S.C. 552a except subsections (b), (c)(1), and (2), (e)(4)(A) through (F), (e)(6), (7), (9), (10), and (11), and (i) to the extent the system of records pertains to the enforcement of criminal laws. Under 5 U.S.C. 552(k)(2), the Office of the Inspector General Investigative Files are exempted from 5 U.S.C. 552a(c)(3), (d), (e)(1), (e)(4)(G), (H), and (I) and (f) to the extent the system of records consists of investigatory material compiled for law enforcement purposes. These exemptions are contained at 17 CFR 146.13.

CFTC-33

SYSTEM NAME:

Electronic Access Card.

SYSTEM LOCATION:

This system is located in the Office of Management Operations, Commodity Futures Trading Commission, Three Lafayette Centre, 1155 21st Street, NW., Washington, DC 20581, and regional offices in New York, Chicago, and Kansas City.

CATEGORIES OF INDIVIDUALS COVERED BY THE SYSTEM:

Authorized access cardholders in headquarters and regional offices, including Commission employees, onsite contractors, visitors, or representatives of landlords.

CATEGORIES OF RECORDS IN THE SYSTEM:

Records showing name of assigned user, electronic access card number and card status (i.e., whether the card is active or inactive) are directly accessible by the Office of Management Operations (“OMO”) in the New York and Chicago regional offices, and by OMO upon request to the landlord in the headquarters and Kansas City regional office. These records are used to verify that cards have been activated and deactivated correctly.

Records showing name of assigned user, electronic access card number, card status and card activity (i.e., the time and location of access card use by access card user) are directly accessible by OMO in the New York and Chicago regional offices, and by OMO upon request to the landlord in the headquarters and Kansas City regional office. Such records are only accessed and used by the Commission to investigate security incidents, such as thefts or inappropriate access to secure files.

AUTHORITY FOR MAINTENANCE OF THE SYSTEM:

The Commodity Exchange Act, 7 U.S.C. 1 et seq., including Section 12(b)(3) of the Act, at 7 U.S.C. 16(b)(3), and rules and regulations promulgated thereunder.

ROUTINE USES OF RECORDS MAINTAINED IN THE SYSTEM, INCLUDING CATEGORIES OF USERS AND THE PURPOSES OF SUCH USES:

a. Information contained in this system may be disclosed by the Commission to any person in connection with architectural, security or other surveys concerning use of office space.

b. Information contained in this system may be disclosed to any person for their use of maintenance or service of data processing systems.

Information in this system may also be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Paper records are stored in file folders; electronic records, including computer files, are stored on the Commission's network, including desktop applications, and other electronic media as needed. Various reports are generated from the computer system.

RETRIEVABILITY:

By name of the subject, by assigned access card number, by time period and by entry point.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets. In the headquarters office, these records may be requested from the Commission's landlords' databases only by the Director of the Office of Management Operations, or his/her designee, and the CFTC maintains all access card usage records in limited access areas at all times. In the regional offices, access card information is maintained in a locked area, with access restricted to staff members of the Office of Management Operations.

RETENTION AND DISPOSAL:

In accordance with the General Record Schedules, the records in the system are considered temporary and are destroyed six months after the user turns in the access card. Paper records are destroyed when no longer required or after two years, whichever is shorter.

SYSTEM MANAGER(S) AND ADDRESS:

Director, Office of Management Operations, Commodity Futures Trading Commission, Three Lafayette Centre, 1155 21st Street, NW., Washington, DC 20581.

NOTIFICATION PROCEDURES:

Individuals seeking to determine whether the system of records contains information about themselves, seeking access to records about themselves in the system of records or contesting the content of records about themselves should address written inquiry to the Office of General Counsel, Paralegal Specialist, Commodity Futures Trading Commission, Three Lafayette Centre, 1155 21st Street, NW., Washington, DC 20581. Telephone (202) 418-5011. The system of records and the notification, access and challenge procedures apply only to records of access card usage in the Commission's actual possession. None of these applies to any information solely in a landlord's possession.

RECORD RESOURCE CATEGORIES:

The Commission's landlords in headquarters and the regional offices provide information on name of assigned user, access card number, access level, and status on a weekly basis or as needed.

CFTC-34

SYSTEM NAME:

Telecommunications Services (BlackBerry or Calling Card).

SYSTEM LOCATION:

This system is located in the Office of Information and Technology Services, Commodity Futures Trading Commission, Three Lafayette Centre, 1155 21st Street, NW., Washington, DC 20581.

CATEGORIES OF INDIVIDUALS COVERED BY THE SYSTEM:

Commission employees and contractor personnel who are issued either a Blackberry or Calling Card.

CATEGORIES OF RECORDS IN THE SYSTEM:

Calling Card numbers, BlackBerry numbers and the individuals to whom they are assigned.

AUTHORITY FOR MAINTENANCE OF THE SYSTEM:

5 U.S.C. 301 and 41 CFR Part 101-35.

ROUTINE USES OF RECORDS MAINTAINED IN THE SYSTEM INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVEING, ACCESSING, RETAINING, AND DISPOSING OF RECORDS IN THE SYSTEM:

STORAGE:

Calling Card records are stored in a spreadsheet file. BlackBerry records are stored in a database file. Both files are located on a file server on the Commission's network in the headquarters office.

RETRIEVABILITY:

Records are retrievable by employee name, BlackBerry telephone number, or calling card number.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

A BlackBerry record is cancelled when a device is reassigned to another user. A Calling Card and its record are cancelled when the card is returned to the Office of Information and Technology Services.

SYSTEM MANAGER(S) AND ADDRESS:

Telecommunications Manager, Office of Information and Technology Services, Commodity Futures Trading Commission, Three Lafayette Centre, 1155 21st Street, NW., Washington, DC 20581.

NOTIFICATION PROCEDURE:

Individuals seeking to determine whether the system of records contains information about themselves, seeking access to records about themselves in the system of records or contesting the content of records about themselves should address written inquiries to the Office of General Counsel, Paralegal Specialist, Commodity Futures Trading Commission, Three Lafayette Centre, 1155 21st Street, NW., Washington, DC 20581. Telephone (202) 418-5011.

RECORD SOURCE CATEGORIES:

BlackBerry and Calling Card assignment records.

CFTC-35

SYSTEM NAME:

Interoffice and Internet E-mail.

SYSTEM LOCATION:

This system is located in the Office of Information Technology Services, Commodity Futures Trading Commission, Three Lafayette Centre, 1155 21st Street, NW., Washington, DC 20581.

CATEGORIES OF INDIVIDUALS COVERED BY THE SYSTEM:

All Commission employees and authorized contractors.

CATEGORIES OF RECORDS IN THE SYSTEM:

Records on the use of the interoffice and Internet e-mail system, including the mailbox name, number of objects in the mailbox, and aggregate size of the mailbox.

AUTHORITY FOR MAINTENANCE OF THE SYSTEM:

5 U.S.C. 301; Commodity Exchange Act, 7 U.S.C. 1 et seq., including Section 12(b)(3) of the Commodity Exchange Act, at 7 U.S.C. 16(b)(3), and rules and regulations promulgated thereunder.

ROUTINE USES OF RECORDS MAINTAINED IN THE SYSTEM INCLUDING CATEGORIES OF USER AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Records are stored on the mail servers on the computer network in each Commission location. Records also may be stored on other electronic media as needed, such as encrypted hard drives.

RETRIEVABILITY:

The information can be retrieved by assigned interoffice or Internet mail address.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

Network administrators have access to the e-mail information, including the “header” information described under “Categories of Records.” In addition, the mailbox owner can grant access to objects in the mailbox to others.

RETENTION AND DISPOSAL:

Records are retained on the Commission's computer mail servers until the sender and receiver delete the information from the e-mail system, except to the extent the records are archived for back-up or disaster recovery purposes. Archived records are retained on the Commission's network file servers or other electronic media as needed until overwritten through standard archive/back-up and deletion procedures. Internet e-mail information that is received by the postmaster due to an error in delivery is considered temporary and is destroyed after the problem is corrected. When an employee leaves the Commission, the employee's mailbox is deleted unless the employee or the employee's administrative officer requests that the mailbox be retained in order to recover work-related information, or unless the employee's e-mail is relevant to pending or anticipated litigation or an investigation.

SYSTEM MANAGER(S) AND ADDRESS:

Network Manager, Office of Information and Technology Services, Commodity Futures Trading Commission, Three Lafayette Centre, 1155 21st Street, NW., Washington, DC 20581.

NOTIFICATION PROCEDURES:

Individuals seeking to determine whether the system of records contains information about themselves, seeking access to records about themselves in the system of records, or contesting the content of records about themselves should address written inquiries to the Office of General Counsel, Paralegal Specialist, Commodity Futures Trading Commission, Three Lafayette Centre, 1155 21st Street, NW., Washington, DC 20581. Telephone (202) 418-5011.

RECORD SOURCE CATEGORIES:

Internet e-mail, interoffice e-mail.

CFTC-36

SYSTEM NAME:

Internet Security Gateway Systems (Firewall, Web Content Filter, and E-mail Filter).

SYSTEM LOCATION:

This system is located in the Office of Information and Technology Services, Commodity Futures Trading Commission, Three Lafayette Centre, 1155 21st Street, NW., Washington, DC 20581 and in the Chicago Regional Office, 525 West Monroe Street, Suite 1100, Chicago, IL 60661.

CATEGORIES OF INDIVIDUALS COVERED BY THE SYSTEM:

All CFTC employees and onsite contractors who are users of the Internet.

CATEGORIES OF RECORDS IN THE SYSTEM:

Records on the Web sites accessed and inbound e-mail received, as identified by the Internet protocol address assigned to each computer, as well as information on the date and time of the Web site that was accessed or e-mail that was received, including a record of the sender of the e-mail.

AUTHORITY FOR MAINTENANCE OF THE SYSTEM:

5 U.S.C. 301; Commodity Exchange Act, 7 U.S.C. 1 et seq., including Section 12(b)(3) of the Commodity Exchange Act, at 7 U.S.C. 16(b)(3), and rules and regulations promulgated thereunder.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Records are kept and maintained on the Internet Security Gateway Systems servers in the DC headquarters and Chicago Regional Office computer rooms.

RETRIEVABILITY:

The information can be retrieved by Internet protocol address. The network administrators have access to information about the office location and individuals assigned to each computer, as identified by Internet protocol address.

SAFEGUARDS:

Records are protected from unauthorized access and improper use through administrative, technical and physical security measures. Technical security measures within CFTC include restrictions on computer access to authorized individuals, strong passwords frequently changed, use of encryption for certain data types and transfers, and regular review of security procedures and best practices to enhance security. Access to the Internet Security Gateway Systems is password-protected information that is stored on servers in the DC headquarters and Chicago Regional Office computer rooms. Physical measures include restrictions on building access to authorized individuals and maintenance of records in lockable offices and filing cabinets.

Access to the computer room is limited to certain employees of the Office of Information and Technology Services.

RETENTION AND DISPOSAL:

Because these records are routinely overwritten through standard procedures, the length of time of storage on the Internet Security Gateway Systems servers is governed by available disk space on the server. Records are generally overwritten in less than one (1) year.

SYSTEM MANAGER(S) AND ADDRESS:

Network Manager, Commodity Futures Trading Commission, Three Lafayette Centre, 1155 21st Street, NW., Washington, DC 20581.

NOTIFICATION PROCEDURE:

Individuals seeking to determine whether the system of records contains information about themselves, seeking access to records about themselves in the system of records, or contesting the content of records about themselves should address written inquiries to the Office of General Counsel, Paralegal Specialist, Commodity Futures Trading Commission, Three Lafayette Centre, 1155 21st Street, NW., Washington, DC 20581. Telephone (202) 418-5011.

RECORD SOURCE CATEGORIES:

Internet, Web site and news group browsing, Web site access.

CFTC-37

SYSTEM NAME:

Lexis/Westlaw Billing Information System.

SYSTEM LOCATION:

This system is located in the Library, Commodity Futures Trading Commission, Three Lafayette Centre, 1155 21st Street, NW., Washington, DC 20581.

CATEGORIES OF INDIVIDUALS COVERED BY THE SYSTEM:

All Commission employees and onsite contractors who are users of the Lexis/Westlaw research system.

CATEGORIES OF RECORDS IN THE SYSTEM:

Records on the name, search subject, database searched, date, elapsed time, type of charge, and total charge for a search in the Lexis/Westlaw automated research system.

AUTHORITY FOR MAINTENANCE OF THE SYSTEM:

5 U.S.C. 301; Commodity Exchange Act, 7 U.S.C. 1 et seq., including Section 12(b)(3) of the Commodity Exchange Act, 7 U.S.C. 16(b)(3), and rules and regulations promulgated thereunder.

ROUTINE USES OF RECORDS MAINTAINED IN THE SYSTEM INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Records are accessed by Commission staff through the Commission's network, including its electronic billing system (MarkView), and may be copied by authorized Commission staff to the Commission's computer network. The records are stored on the network of the Department of Transportation, the organization contractually obligated to support the Commission's electronic billing system. When printed, the records are stored in a lockable file cabinets.

RETRIEVABILITY:

By division, by month of use, by database accessed, by user name and user identification number.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Records are retained indefinitely in electronic form, while hard copies are destroyed when no longer useful to the Commission employee reviewing them.

SYSTEM MANAGER(S) AND ADDRESS:

Supervisory Librarian, Commodity Futures Trading Commission, Three Lafayette Centre, 1155 21st Street, NW., Washington, DC 20581.

NOTIFICATION PROCEDURE:

Individuals seeking to determine whether the system of records contains information about themselves, seeking access to records about themselves in the system of records, or contesting the content of records about themselves should address written inquiries to the Office of General Counsel, Paralegal Specialist, Commodity Futures Trading Commission, Three Lafayette Centre, 1155 21st Street, NW., Washington, DC 20581. Telephone (202) 418-5011.

RECORD SOURCE CATEGORIES:

Lexis/Westlaw billing information.

CFTC-38

SYSTEM NAME:

Automated Library Circulation System.

SYSTEM LOCATION:

This system is located in the Library, Commodity Futures Trading Commission, Three Lafayette Centre, 1155 21st Street, NW., Washington, DC 20581.

CATEGORIES OF INDIVIDUALS COVERED BY THE SYSTEM:

Individual Commission employees who check out books and periodicals from the Commission Library.

CATEGORIES OF RECORDS IN THE SYSTEM:

Records showing the bar code assigned to employees who use the library, title, due date, and hold information on library materials checked-out by individual CFTC employees; records of overdue materials and of employee notification of overdue materials.

AUTHORITY FOR MAINTENANCE OF THE SYSTEM:

5 U.S.C. 301 and 41 CFR Part 101-27.

ROUTINE USES OF RECORDS MAINTAINED IN THE SYSTEM INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Records are stored on the Commission network (Horizon Integrated Library System [ILS]). Records on the identifying bar codes assigned to individuals are also stored on the network.

RETRIEVABILITY:

Records are retrievable by employee name, by the employee's bar code number, or by employee's office telephone number.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets. Employees may access their own records. Only authorized Commission staff members, who are principally staff of the Library or the Office of Information and Technology Services, may access records of all employees.

RETENTION AND DISPOSAL:

Records in the system are considered temporary. The records of library transactions are destroyed when an item on loan is returned or reimbursement is made for replacement of the item.

SYSTEM MANAGER(S) AND ADDRESS:

Supervisory Librarian, Commodity Futures Trading Commission, Three Lafayette Centre, 1155 21st Street NW., Washington, DC 20581.

NOTIFICATION PROCEDURES:

Individuals seeking to determine whether the system of records contains information about themselves, seeking access to records about themselves in the system of records, or contesting the content of records about themselves should address written inquiries to the Office of General Counsel, Paralegal Specialist, Commodity Futures Trading Commission, Three Lafayette Centre, 1155 21st Street, NW., Washington, DC 20581. Telephone (202) 418-5011.

RECORD SOURCE CATEGORIES:

Library user bar code identifiers; library materials use; overdue notices.

CFTC-39

SYSTEM NAME:

Freedom of Information Act Requests.

SYSTEM LOCATION:

This system is located in the Office of General Counsel, Commodity Futures Trading Commission, Three Lafayette Centre, 1155 21st Street, NW., Washington, DC 20581. Other offices involved in the processing of requests may also maintain copies of the requests and any related internal administrative records.

CATEGORIES OF INDIVIDUALS COVERED BY THE SYSTEM:

Individuals requesting information from the Commission pursuant to provisions of the Freedom of Information Act (FOIA), 5 U.S.C. 552, and individuals who are the subjects of FOIA requests.

CATEGORIES OF RECORDS IN THE SYSTEM:

Requests, internal memoranda, response letters, appeals of denials, appeal determinations and electronic tracking data.

AUTHORITY FOR MAINTENANCE OF THE SYSTEM:

5 U.S.C. 552, 5 U.S.C. 301.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders and on microfiche; electronic records, including computer files, are stored on the Commission's network, e.g., desktop applications and RequestTracking, and on other electronic media as needed.

RETRIEVABILITY:

By assigned control number, by name of requester, or by subject of request.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

FOIA requests are retained in accordance with General Records Schedule 14 of the National Archives and Records Administration.

SYSTEM MANAGER(S) AND ADDRESS:

Paralegal Specialist, Office of General Counsel, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals requesting information from the Commission pursuant to the FOIA and employees processing the requests.

CFTC-40

SYSTEM NAME:

Privacy Act Requests.

SYSTEM LOCATION:

This system is located in the Office of General Counsel, Commodity Futures Trading Commission, Three Lafayette Centre, 1155 21st Street, NW., Washington, DC 20581. Telephone (202) 418-5011. Copies of the requests and any related internal administrative records may also be maintained by other offices involved in the processing of requests.

CATEGORIES OF INDIVIDUALS COVERED BY THE SYSTEM:

Individuals filing requests for access to, correction of, or an accounting of disclosures of personal information contained in system of records maintained by the Commission, pursuant to the Privacy Act of 1974. 5 U.S.C. 552a.

CATEGORIES OF RECORDS IN THE SYSTEM:

Requests, internal memoranda, response letters, appeals of denials, appeal determinations and electronic tracking data.

AUTHORITY FOR MAINTENANCE OF THE SYSTEM:

5 U.S.C. 552a, 5 U.S.C. 301.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders and on microfiche; electronic records, including computer files, are stored on the Commission's network, e.g., desktop applications and RequestTracking, and on other electronic media as needed.

RETRIEVABILITY:

By assigned control number or by name of requester.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Privacy Act requests are retained in accordance with General Records Schedule 14 of the National Archives and Records Administration.

SYSTEM MANAGER(S) AND ADDRESS:

Paralegal Specialist, Office of General Counsel, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals requesting information from the Commission pursuant to the Privacy Act and employees processing the requests.

CFTC-41

SYSTEM NAME:

Requests for Confidential Treatment.

SYSTEM LOCATION:

This system is located in the Office of General Counsel, Commodity Futures Trading Commission, Three Lafayette Centre, 1155 21st Street, NW., Washington, DC 20581. A copy of the request may also be kept by the office receiving the document for which confidential treatment is being requested.

CATEGORIES OF INDIVIDUALS COVERED BY THE SYSTEM:

Individuals requesting confidential treatment of, and individuals who are the subjects of, documents filed with the Commission.

CATEGORIES OF RECORDS IN THE SYSTEM:

Requests for confidential treatment, the documents for which confidential treatment is requested and electronic tracking data.

AUTHORITY FOR MAINTENANCE OF THE SYSTEM:

5 U.S.C. 552, 5 U.S.C. 301.

ROUTINE USES OF RECORDS MAINTAINED IN THE SYSTEM, INCLUDING CATEGORIES OF USERS AND THE PURPOSES OF SUCH USES:

Information in this system may be disclosed in accordance with the blanket routine uses numbered 1 through 19 that appear at the beginning of the Commission's compilation of its systems of records notices.

POLICIES AND PRACTICES FOR STORING, RETRIEVING, ACCESSING, RETAINING, AND DISPOSING OF RECORDS IN THE SYSTEM:

STORAGE:

Paper records are stored in file folders and on microfiche; electronic records, including computer files, are stored on the Commission's network, e.g., desktop applications and Contreat2003, and on other electronic media as needed.

RETRIEVABILITY:

By name of requester or by subject of request.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Records are retained for 20 years then destroyed.

SYSTEM MANAGER(S) AND ADDRESS:

Paralegal Specialist, Office of General Counsel, Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals submitting documents to the Commission.

CFTC-42

SYSTEM NAME:

Debt Collection Files.

SYSTEM LOCATION:

This system is located in the Office of Financial Management, Commodity Futures Trading Commission, Three Lafayette Centre, 1155 21st St. NW., Washington, DC 20581.

CATEGORIES OF INDIVIDUALS COVERED BY THE SYSTEM:

Individuals who owe a civil monetary penalty to the Commodity Futures Trading Commission or who have not complied with an order of restitution or disgorgement resulting from an administrative or injunctive enforcement action.

CATEGORIES OF RECORDS IN THE SYSTEM:

The files will generally contain information including the name and address of the debtor, the taxpayer's identification number (which may be the social security number); records of each collection made; and notice(s) to the debtor demanding payment and describing the consequences of non-payment. The files may also contain credit reports; reports of asset searches; copies of income tax returns; financial statements reflecting the net worth of the debtor; if applicable, date by which the debt must be referred to the Department of the Treasury or Department of Justice for further collection action; documentation of judgments or liens; and citation or basis on which the debt was terminated or compromised.

AUTHORITY FOR MAINTENANCE OF THE SYSTEM:

31 U.S.C. 3701, et seq.

ROUTINE USES OF RECORDS MAINTAINED IN THE SYSTEM, INCLUDING CATEGORIES OF USERS AND THE PURPOSES OF SUCH USERS:

a. Information regarding the debt and the actions taken to collect the monies may be disclosed to the Department of the Treasury or the Department of Justice for further collection action. Once the records are forwarded to the Department of the Treasury, they are covered by the Treasury/Financial Management Services System 014, Debt Collection Operations. If the records are forwarded to the Department of Justice, they are covered by the Department's system JMD-006, Debt Collection Management System.

b. Information about the delinquent debt may be disclosed to consumer or commercial reporting agencies as required by 31 U.S.C. 3711(e). Reporting may be done directly by the Commission or through the Department of the Treasury upon referral of the delinquent debt for further collection action.

Information in this system may also be disclosed in accordance with the blanket routine uses numbered 1 through 19 that appear at the beginning of the Commission's compilation of its systems of records notices.

POLICIES AND PRACTICES FOR STORING, RETRIEVING, ACCESSING, RETAINING AND DISPOSING OF RECORDS IN THE SYSTEM:

STORAGE:

Paper records are stored in file folders. Electronic records, including computer files, are stored on the Commission's network and on various other electronic media as needed, including eLaw (Practice Manager) and DOT Delphi Financial System.

RETRIEVABILITY:

Records are retrievable by CFTC docket number and by the name of the debtor.

SAFEGUARDS:

Records are protected from unauthorized access and improper use through administrative, technical and physical security measures. Technical security measures within CFTC include restrictions on computer access to authorized individuals, strong passwords frequently changed, use of encryption for certain data types and transfers, and regular review of security procedures and best practices to enhance security. Physical measures include restrictions on building access to authorized individuals and maintenance of records in lockable offices and filing cabinets.

RETENTION AND DISPOSAL:

Records are retained and disposed in accordance with General Records Schedule 6 of the National Archives and Records Administration.

SYSTEM MANAGER(S) AND ADDRESS:

Office of Financial Management, Commodity Futures Trading Commission, Three Lafayette Centre, 1155 21st Street, NW., Washington, DC 20581.

NOTIFICATION PROCEDURE:

Individuals seeking to determine whether the system of records contains information about themselves, seeking access to records about themselves in the system of records or contesting the content of records about themselves should address written inquiries to the Office of General Counsel, Paralegal Specialist, Commodity Futures Trading Commission, Three Lafayette Centre, 1155 21st Street, NW., Washington, DC 20581. Telephone (202) 418-5011.

RECORD SOURCE CATEGORIES:

Commission orders, judicial orders, debtors, credit reports from commercial credit bureaus, asset search databases, Department of the Treasury, Department of Justice.

CFTC-43

SYSTEM NAME:

Visitor Information System.

SYSTEM LOCATION:

The system is located in the Office of the Executive Director, Office of Management Operations, Commodity Futures Trading Commission, Three Lafayette Centre, 1155 21st Street, NW., Washington, DC 20581.

CATEGORIES OF INDIVIDUALS COVERED BY THE SYSTEM:

Visitors to the Commission.

CATEGORIES OF RECORDS IN THE SYSTEM:

Information from personal identity records, such as driver's license, passport, or Federal/Military ID; the number of the printed badge issued; location, date, and time of entry; company affiliation of visitor; name and phone number of the employee visited; and the purpose of the visit.

AUTHORITY FOR MAINTENANCE OF THE SYSTEM:

The Federal Property and Administrative Services Act of 1949 (63 Stat. 377), as amended; Homeland Security Presidential Directive 12 (HSPD-12), Policy for a Common Identification Standard for Federal Employees and Contractors, August 27, 2004.

PURPOSE:

The purpose of this information is to verify the identity of visitors in order to protect the employees and property of the Commission, verify that visitors entering the property are authorized to do so, and track the time, date, and location of the visitor so that, in the event of emergency, the agency can account for all the people in its space.

ROUTINE USES OF RECORDS MAINTAINED IN THE SYSTEM:

Information in this system may be disclosed in accordance with the blanket routine uses numbered 1 through 19 that appear at the beginning of the Commission's compilation of its systems of records notices.

POLICIES AND PRACTICES FOR STORING, RETRIEVING, SAFEGUARDING ACCESS, RETAINING, AND DISPOSING OF RECORDS IN THE SYSTEM:

STORAGE:

Computer records are stored in a stand-alone database. Paper reports from the system are kept in a locked file.

RETRIEVABILITY:

By date and by visitor name.

SAFEGUARDS:

Records are protected from unauthorized access and improper use through administrative, technical and physical security measures. Technical security measures within CFTC include restrictions on computer access to authorized individuals, strong passwords frequently changed, use of encryption for certain data types and transfers, and regular review of security procedures and best practices to enhance security. The visitor database is a stand-alone database, not accessible through the CFTC network, and is password protected. Physical measures include restrictions on building access to authorized individuals and maintenance of records in lockable offices and filing cabinets. Written reports are kept in a locked file with limited key access.

RETENTION AND DISPOSAL:

Records will be retained for three months and then destroyed.

SYSTEM MANAGER(S) AND ADDRESS:

Deputy Director, Office of Management Operations, Commodity Futures Trading Commission, Three Lafayette Centre, 1155 21st Street, NW., Washington, DC 20581.

NOTIFICATION PROCEDURE:

Individuals seeking to determine whether this system of records contains information about themselves, or seeking access to records about themselves in the system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

The individual on whom the record is maintained.

CFTC-44

SYSTEM NAME:

Personnel Security Files.

SYSTEM LOCATION:

This system is located in the Office of Human Resources, Commodity Futures Trading Commission, Three Lafayette Centre, 1155 21st Street, NW., Washington, DC 20581.

CATEGORIES OF INDIVIDUALS COVERED BY THE SYSTEM:

Individuals who require regular, ongoing access to CFTC facilities, information technology systems, or information classified in the interest of national security, including applicants for Commission employment or contracts, Commission employees, contractors of the Commission, students, interns, volunteers, individuals authorized to perform or use services provided in Commission facilities, and individuals formerly in any of these positions.

CATEGORIES OF RECORDS IN THE SYSTEM:

Records may include any or all of the following, depending on the individual and his or her position: Resume, OF 306, and “I-9” documents, such as copies of driver's license, passport, and birth certificate, and similar documents.

Note: This system of records does not include the Office of Personnel Management (OPM) background investigation report. An identical version of the investigation report is in the possession of the Commission, but is considered to be part of the OPM Central-9, Personnel Investigations Records. For information on how to request access to the OPM Central-9, Personnel Investigations Records, please see the Note in the Records Access Procedures section of this notice.

AUTHORITY FOR MAINTENANCE OF THE SYSTEM:

Depending on the purpose of the investigation, the U.S. government is authorized to ask for this information under Executive Orders 10450, 10865, 12333, 13526, and 13488; sections 3301 and 9101 of title 5, U.S. Code; sections 2165 and 2201 of title 42, U.S. Code; sections 781 to 887 of title 50, U.S. Code; parts 5, 731, 732, and 736 of title 5, Code of Federal Regulations; and Homeland Security Presidential Directive 12 (HSPD-12), Policy for a Common Identification Standard for Federal Employees and Contractors, August 27, 2004.

PURPOSE:

The records in this system are used to verify identity and to facilitate background investigations by OPM.

ROUTINE USES OF RECORDS MAINTAINED IN THE SYSTEM:

Information in this system may be disclosed under the following conditions:

a. Except as noted on Forms SF 85, 85-P, and 86, when a record on its face, or in conjunction with other records, indicates a violation or potential violation of law, whether civil, criminal, or regulatory in nature, and whether arising by general statute or particular program statute, or by regulation, rule, or order issued pursuant thereto, disclosure may be made to the appropriate public authority, whether Federal, foreign, State, local, or Tribal, or otherwise, responsible for enforcing, investigating or prosecuting such violation or charged with enforcing or implementing the statute, or rule, regulation, or order issued pursuant thereto, if the information disclosed is relevant to any enforcement, regulatory, investigative or prosecutorial responsibility of the receiving entity.

b. Employment, Clearances, Contract, or Other Benefits Decision by an Organization other than the Commission—disclosure may be made to a Federal, State, local, foreign, or Tribal or other public authority of the fact that this system of records contains information relevant to the retention of an employee, the retention of a security clearance, or the letting of a contract. The other agency or licensing organization may then make a request supported by the written consent of the individual for the entire record if it so chooses. No disclosure will be made unless the information has been determined to be sufficiently reliable to support a referral to another office within the agency or to another Federal agency for criminal, civil, administrative, personnel, or regulatory action.

c. National Security and Intelligence Matters—these records may be disclosed to Federal, State, local agencies, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

Information in this system may also be disclosed in accordance with the blanket routine uses numbered 1 through 19 that appear at the beginning of the Commission's compilation of its systems of records notices.

POLICIES AND PRACTICES FOR STORING, RETRIEVING, SAFEGUARDING ACCESS, RETAINING, AND DISPOSING OF RECORDS IN THE SYSTEM:

STORAGE:

These records are maintained on paper. They are stored in a secure location in file folders and/or binders.

RETRIEVABILITY:

Files are retrieved by name.

SAFEGUARDS:

Records are protected from unauthorized access and improper use through administrative and physical security measures. Physical measures include restrictions on building access to authorized individuals and maintenance of records in lockable offices and filing cabinets. These records are kept in file folders in locked metal file cabinets in locked rooms at the headquarters office in the Office of Human Resources. Access to records is limited to approved security and administrative personnel who have a need for the information in the performance of their official duties.

RETENTION AND DISPOSAL:

These records are retained and disposed of in accordance with General Records Schedule 18, item 22b.

SYSTEM MANAGER(S) AND ADDRESS:

Manager of Employment and Compensation, Office of Human Resources, Commodity Futures Trading Commission, Three Lafayette Centre, 1155 21st Street, NW., Washington, DC 20581.

NOTIFICATION PROCEDURE:

An individual can determine if this system contains a record pertaining to him/her by sending a request in writing, signed, to the Office of General Counsel, Paralegal Specialist, Three Lafayette Centre, 1155 21st Street, NW., Washington, DC 20581. Telephone (202) 418-5011. When requesting notification of, or access to, records covered by this Notice, an individual should provide his/her full name, date of birth, agency name, and work location. An individual requesting notification of records in person must provide identity documents, such as a government-issue photo ID, sufficient to satisfy the custodian of the records that the requester is entitled to access. Individuals requesting notification via mail or telephone must furnish, at a minimum, name, date of birth, social security number, and home address in order to establish identity.

Note: For information on how to request access to the OPM Personnel Investigations Records which are part of the OPM Central-9 system of records, please see the Note in the Records Access Procedures section of this notice.

RECORDS ACCESS PROCEDURES:

Individuals wishing to request access to CFTC records about them should contact the system manager indicated above. Individuals must furnish their full name (first, middle, and last name) and birth date for their record to be located and identified. An individual requesting access must also follow CFTC Privacy Act requirements regarding verification of identity and amendment of records. Correspondence between the requester and OHR employees on the subject of any background investigation and security adjudication may also be made available.

Note: The CFTC may not provide an individual with access to his/her OPM Personnel Investigations Records or to copies of OPM documentation of any background investigation conducted by OPM or contractors dealing with those investigations. These records, which are sent to the CFTC Personnel Security Office to allow adjudication of the request for security clearance, are owned by OPM and reside within the OPM Central-9 system of records. OPM is solely responsible for controlling access to, or amendment of, those records. Those seeking access to, or amendment, of those records owned by OPM should submit a request in writing to: FOI/P, Office of Personnel Management, Federal Investigative Services Division, P.O. Box 618, Boyers, PA 16018-0618. The signed request should be made under the Privacy Act of 1974 and include the requester's full name, home address, Social Security Number, and date and place of birth.

CONTESTING RECORD PROCEDURES:

Individuals wishing to request amendment of their CFTC records should contact the system manager indicated above. Individuals must furnish their full name (first, middle, and last name) and birth date for the record to be located and identified. An individual requesting amendment must also follow the CFTC Privacy Act requirements regarding verification of identity and amendment of records. (Note: Individuals who wish to request amendment of their OPM Personnel Investigations Records should follow the requirements of the OPM Central-9 system of records. For information on how to submit such a request, please see the Note in the Records Access Procedures section of this notice.)

RECORD SOURCE CATEGORIES:

Information is obtained from the individual.

Issued in Washington, DC, on January 25, 2011.
By the Commission.
David Stawick,
Secretary of the Commission.

[FR Doc. 2011-2133 Filed 2-1-11; 8:45 am]

BILLING CODE 6351-01-P